ENVIRONMENTAL PROTECTION AGENCY

40 CFR Part 63

[EPA-HQ-OAR-2017-0664; FRL-10010-15-OAR]

RIN 2060-AT05

National Emission Standards for Hazardous Air Pollutants: Taconite Iron Ore Processing Residual Risk and Technology Review

AGENCY: Environmental Protection Agency (EPA).

ACTION: Final rule.

SUMMARY: This action finalizes the residual risk and technology review (RTR) conducted for the Taconite Iron Ore Processing source category regulated under national emission standards for hazardous air pollutants (NESHAP). In addition, we are taking final action addressing the exemptions previously allowed for periods of startup, shutdown, and malfunction (SSM) and clarifying that the emissions standards apply at all times. These final amendments include no revisions to the numerical emission limits of the rule based on the RTR. The amendments add electronic reporting of performance test results and compliance reports and make minor technical corrections and amendments to monitoring and testing requirements that will reduce the compliance burden on industry while continuing to be protective of the environment. While the amendments do not result in quantifiable reductions in emissions of hazardous air pollutants (HAP), this action results in improved monitoring, compliance, and implementation of the rule.

DATES: This final rule is effective on July 28, 2020. The incorporation by reference (IBR) of certain publications listed in the rule is approved by the Director of the Federal Register as of July 28, 2020.

ADDRESSES: The U.S. Environmental Protection Agency (EPA) has established a docket for this action under Docket ID No. EPA-HQ-OAR-2017-0664. All documents in the docket are listed on the https://www.regulations.gov/ website. Although listed, some information is not publicly available, e.g., Confidential Business Information or other information whose disclosure is restricted by statute. Certain other material, such as copyrighted material, is not placed on the internet and will be publicly available only in hard copy form or on a third party's website. Publicly available docket materials are available electronically through https://www.regulations.gov/. Out of an abundance of caution for members of the public and our staff, the EPA Docket Center and Reading Room was closed to public visitors on March 31, 2020, to reduce the risk of transmitting COVID-19. Our Docket Center staff will continue to provide remote customer service via email, phone, and webform. There is a temporary suspension of mail delivery to the EPA, and no hand deliveries are currently accepted. For further information and updates on EPA Docket Center services and the current status, please visit us online at https://www.epa.gov/dockets.

FOR FURTHER INFORMATION CONTACT: For questions about this final action, contact Mr. David Putney, Sector Policies and Programs Division (D243-02), Office of Air Quality Planning and Standards, U.S. Environmental Protection Agency, Research Triangle Park, North Carolina 27711; telephone number: (919) 541-2016; fax number: (919) 541-4991; and email address: putney.david@epa.gov. For specific information regarding the risk modeling methodology, contact Mr. Chris Sarsony, Health and Environmental Impacts Division (C539-02), Office of Air Quality Planning and Standards, U.S. Environmental Protection Agency, Research Triangle Park, North Carolina 27711; telephone number: (919) 541-4843; fax number: (919) 541-0840; and email address: sarsony.chris@epa.gov. For information about the applicability of the NESHAP to a particular entity, contact Mr. John Cox, Office of Enforcement and Compliance Assurance, U.S. Environmental Protection Agency, WJC South Building, 1200 Pennsylvania Ave. NW, Washington, DC 20460; telephone number: (202) 564-1395; and email address: cox.john@epa.gov.

SUPPLEMENTARY INFORMATION: Preamble acronyms and abbreviations. We use multiple acronyms and terms in this preamble. While this list may not be exhaustive, to ease the reading of this preamble and for reference purposes, the EPA defines the following terms and acronyms here:

ASME American Society of Mechanical Engineers

BLDS bag leak detection system

CAA Clean Air Act

CDX Central Data Exchange

CEDRI Compliance and Emissions Data Reporting Interface

CFR Code of Federal Regulations

COMS continuous opacity monitoring systems

CPMS continuous parameter monitoring system

CRA Congressional Review Act

EMP elongated mineral particulate

EPA Environmental Protection Agency

ESP electrostatic precipitator

HAP hazardous air pollutants(s)

HCl hydrogen chloride

HF hydrogen fluoride

HI hazard index

HQ hazard quotient

IBR incorporation by reference

ICR Information Collection Request

MACT maximum achievable control technology

MIR maximum individual risk

NESHAP national emission standards for hazardous air pollutants

NTTAA National Technology Transfer and Advancement Act

OMB Office of Management and Budget

PM particulate matter

PRA Paperwork Reduction Act

RFA Regulatory Flexibility Act

RIN Regulatory Information Number

RTR residual risk and technology review

SSM startup, shutdown, and malfunction

the Court the United States Court of Appeals for the District of Columbia Circuit

TOSHI target organ-specific hazard index

TRIM.FaTE Total Risk Integrated Methodology. Fate, Transport, and Ecological Exposure model

TWHS Taconite Workers Health Study

UMRA Unfunded Mandates Reform Act

Background information. On September 25, 2019, the EPA proposed the results of the RTR, proposed a decision regarding the non-asbestiform amphibole elongated mineral particulates (EMP), and proposed various revisions to address periods of SSM and to improve certain monitoring and testing requirements in the Taconite Iron Ore Processing NESHAP. In this action, we are finalizing decisions and revisions for the rule. We summarize some of the more significant comments we timely received regarding the proposed rule and provide our responses in this preamble. A summary of all other public comments on the proposal and the EPA's responses to those comments is available in the document titled National Emissions Standards for Hazardous Air Pollutants: Taconite Iron Ore Processing Residual Risk and Technology Review Summary of Public Comments and Responses, which can be found in Docket ID No. EPA-HQ-OAR-2017-0664. A “track changes” version of the regulatory language that incorporates the changes in this action is available in the docket.

Organization of this document. The information in this preamble is organized as follows:

I. General Information

A. Does this action apply to me?

B. Where can I get a copy of this document and other related information?

C. Judicial Review and Administrative Reconsideration

II. Background

A. What is the statutory authority for this action?

B. What is the Taconite Iron Ore Processing source category and how does the NESHAP regulate HAP emissions from the source category?

C. What changes did we propose for the Taconite Iron Ore Processing source category in our September 25, 2019, proposal?

III. What is included in this final rule?

A. What are the final rule amendments based on the risk review for the Taconite Iron Ore Processing source category?

B. What are the final rule amendments based on the technology review for the Taconite Iron Ore Processing source category?

C. What are the final rule amendments addressing emissions during periods of SSM?

D. What other changes have been made to the NESHAP?

E. What are the effective and compliance dates of the revisions to the NESHAP?

IV. What is the rationale for our final decisions and amendments for the Taconite Iron Ore Processing source category?

A. Residual Risk Review for the Taconite Iron Ore Processing Source Category

B. Technology Review for the Taconite Iron Ore Processing Source Category

C. SSM for the Taconite Iron Ore Processing Source Category

D. Other Amendments to the Taconite Iron Ore Processing NESHAP

E. Compliance Dates of the Revisions to the NESHAP

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
Source category | NESHAP | NAICS ¹ code
Taconite Iron Ore Processing | 40 CFR part 63, subpart RRRRR | 21221
¹ North American Industry Classification System.

Table 1 of this preamble is not intended to be exhaustive, but rather to provide a guide for readers regarding entities likely to be affected by the final action for the source category listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/taconite-iron-ore-processing-national-emission-standards-hazardous. Following publication in the Federal Register, the EPA will post the Federal Register version and key technical documents at this same website.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by September 28, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of HAP from stationary sources. In the first stage, we must identify categories of sources emitting one or more of the HAP listed in CAA section 112(b) and then promulgate technology-based NESHAP for those sources. “Major sources” are those that emit, or have the potential to emit, any single HAP at a rate of 10 tons per year or more, or 25 tons per year or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see the proposed rule at 84 FR 50660, September 25, 2019.

¹ The Court has affirmed this approach of implementing CAA section 112(f)(2)(A): NRDC v. EPA, 529 F.3d 1077, 1083 (D.C. Cir. 2008) (“If EPA determines that the existing technology-based standards provide an `ample margin of safety,' then the Agency is free to readopt those standards during the residual risk rulemaking.”).

B. What is the Taconite Iron Ore Processing source category and how does the NESHAP regulate HAP emissions from the source category?

The EPA promulgated the Taconite Iron Ore Processing NESHAP on October 30, 2003 (68 FR 61868). The standards are codified at 40 CFR part 63, subpart RRRRR. The taconite iron ore processing industry consists of facilities that separate and concentrate iron ore from taconite, a low-grade iron ore containing about 20- to 25-percent iron, and produce taconite pellets, which are about 60- to 65-percent iron. The source category covered by these MACT standards currently includes eight U.S. facilities; six facilities are in Minnesota and two are in Michigan.

Taconite iron ore processing includes crushing and handling of the crude ore, concentrating, agglomerating, indurating, and finished pellet handling. The regulated sources are each new or existing ore crushing and handling operation, ore dryer, pellet indurating furnace, and finished pellet handling operation at a taconite iron ore processing plant that is (or is part of) a major source of HAP emissions. The NESHAP also regulates fugitive emissions from stockpiles (including uncrushed and crushed ore and finished pellets), material transfer points, plant roadways, tailings basins, pellet loading areas, and yard areas. The indurating furnaces are the most significant sources of HAP emissions and account for about 99 percent of the total HAP emissions from the Taconite Iron Ore Processing source category. The rule requires compliance with emission limits, operating limits for control devices, and work practice standards. The emission limits are in the form of particulate matter (PM) limits, which are a surrogate for certain metal HAP emissions as well as for hydrogen chloride (HCl) and hydrogen fluoride (HF). The PM emission limitations apply to each new and existing ore crushing and handling operation, ore dryer, indurating furnace, and finished pellet handling operation. More information on the industry and the key requirements of the NESHAP can be found in the September 25, 2019, proposed rule at 84 FR 50660.

C. What changes did we propose for the Taconite Iron Ore Processing source category in our September 25, 2019, proposal?

On September 25, 2019, the EPA published a proposed rule in the Federal Register for the Taconite Iron Ore Processing NESHAP, 40 CFR part 63, subpart RRRRR, that took into consideration the RTR analyses. In the proposed rule, the EPA found that risks due to emissions of air toxics from this source category are acceptable and that the existing emission standards provide an ample margin of safety to protect public health and prevent, taking into consideration relevant factors, an adverse environmental effect. Pursuant to the technology review, the EPA did not identify any developments in practices, processes, or control technologies for affected sources subject to the Taconite Iron Ore Processing NESHAP. The EPA proposed no revisions to the numerical emission limits based on these analyses. Separate from the RTR, the EPA did propose the following amendments:

• Removal of exemptions during periods of SSM and clarifying that the emissions standards apply at all times;

• Addition of electronic reporting of performance test results and compliance reports;

• Reduction in the minimum required compliance testing duration of individual runs from 2 hours to 1 hour;

• Removal of pressure drop as a monitoring option for dynamic wet scrubbers;

• Removal of the requirements for conducting quarterly internal baghouse inspections for baghouses equipped with a bag leak detection system (BLDS);

• Changes to clarify testing, monitoring, recordkeeping, and reporting requirements and to correct typographical errors; and

• Determination that a compound known as non-asbestiform amphibole EMP is not a HAP and, thus, is not subject to regulation under CAA section 112(d).

III. What is included in this final rule?

This action finalizes the EPA's determinations pursuant to the RTR provisions of CAA section 112 for the Taconite Iron Ore Processing source category. This actions also finalizes several changes to the NESHAP, including the following: (1) Removal of exemptions for periods of SSM and clarifying that the emissions standards apply at all times; (2) addition of requirements for electronic reporting of performance test results and compliance reports; (3) reduction in the minimum required compliance testing duration of individual runs from 2 hours to 1 hour; (4) removal of the option to monitor pressure drop for dynamic wet scrubbers; (5) removal of the requirements to conduct quarterly internal baghouse inspections for baghouses equipped with a bag leak detection system; and (6) clarification of various requirements for testing, monitoring, recordkeeping, and reporting and correction of typographical errors. This preamble also addresses comments received during the public comment period concerning the EPA's decision not to set standards for mercury emissions as part of this action and the EPA's determination that the non-asbestiform amphibole EMP that are emitted from one facility in this source category are not a HAP and are, therefore, not subject to regulation under CAA section 112(d), as described in section IV of this preamble.

A. What are the final rule amendments based on the risk review for the Taconite Iron Ore Processing source category?

The EPA proposed no changes to 40 CFR part 63, subpart RRRRR, based on the risk review conducted pursuant to CAA section 112(f). Specifically, we determined that risks from the Taconite Iron Ore Processing source category are acceptable, that the standards provide an ample margin of safety to protect public health, and that it is not necessary to set a more stringent standard to prevent, taking into consideration relevant factors, an adverse environmental effect. The EPA received no new data or other information during the public comment period that changed this determination. Therefore, we are finalizing our determination that the existing standards protect public health with an ample margin of safety and that the standards protect against an adverse environmental effect and, thus, we are not requiring additional controls under CAA section 112(f)(2).

B. What are the final rule amendments based on the technology review for the Taconite Iron Ore Processing source category?

The EPA proposed no changes to 40 CFR part 63, subpart RRRRR, based on the technology review conducted pursuant to CAA section 112(d)(6). Specifically, we determined that there are no developments in practices, processes, and control technologies for this source category. The EPA received no new data or other information during the public comment period that affected the technology review determination. Therefore, as proposed, we are not revising the MACT standards under CAA section 112(d)(6).

C. What are the final rule amendments addressing emissions during periods of SSM?

We are finalizing the proposed amendments to the Taconite Iron Ore Processing NESHAP to remove and revise provisions related to SSM. In its 2008 decision in Sierra Club v. EPA, 551 F.3d 1019 (D.C. Cir. 2008), the Court vacated portions of two provisions in the EPA's CAA section 112 regulations governing the emissions of HAP during periods of SSM. Specifically, the Court vacated the SSM exemptions contained in 40 CFR 63.6(f)(1) and 40 CFR 63.6(h)(1), holding that under section 302(k) of the CAA, emissions standards or limitations must be continuous in nature and that the SSM exemptions violate the CAA's requirement that some CAA section 112 standards apply continuously. As detailed in section IV.C of the proposal preamble (84 FR 50674, September 25, 2019), the Taconite Iron Ore Processing NESHAP requires that the standards apply at all times (see 40 CFR 63.9610). We are finalizing amendments eliminating the SSM exemption in 40 CFR 63.9610 that apply after January 25, 2021. We are also finalizing several revisions to Table 2 (the General Provisions applicability table) related to SSM plans, monitoring, and recordkeeping as explained in the proposed rule.

We are finalizing the SSM provisions as proposed without setting separate standards for startup and shutdown as discussed in the proposal at IV.C. Further, we are not finalizing separate standards for malfunctions. As discussed in the September 25, 2019, proposal preamble, the EPA interprets CAA section 112 as not requiring emissions that occur during periods of malfunction to be factored into development of CAA section 112 standards, although the EPA has the discretion to set standards for malfunctions where feasible. For this industry sector, it is unlikely that a production equipment malfunction would result in a violation of the standards, and no comments were submitted that would suggest otherwise. Refer to section IV.C of the proposal preamble for further discussion of the EPA's rationale for the decision not to set separate standards for malfunctions, as well as a discussion of the actions a source could take in the unlikely event that a source fails to comply with the applicable CAA section 112(d) standards as a result of a malfunction event, given that administrative and judicial procedures for addressing exceedances of the standards fully recognize that violations may occur despite good faith efforts to comply and can accommodate those situations.

Finally, we are finalizing our proposal to revise the Deviation Notification Report and related records accordingly. As discussed in the proposal preamble, these revisions are consistent with the requirement in 40 CFR 63.9610(a) that the standards apply at all times. Refer to section IV.C.1 of the proposal preamble for a detailed discussion of these amendments.

1. General Duty

We are promulgating revisions to the General Provisions applicability table (Table 2) of 40 CFR part 63, subpart RRRRR, by adding an entry for 40 CFR 63.6(e)(1)(i), which describes the general duty to minimize emissions, and including a “No” in column 3 indicating that it does not apply to subpart RRRRR. Some of the language in that section is no longer necessary or appropriate in light of the elimination of the SSM exemption. We are instead adding general duty regulatory text at 40 CFR 63.9600 that reflects the general duty to minimize emissions while eliminating the reference to periods covered by an SSM exemption. The current language in 40 CFR 63.6(e)(1)(i) characterizes what the general duty entails during periods of SSM. With the elimination of the SSM exemption, there is no need to differentiate between normal operations, startup and shutdown, and malfunction events in describing the general duty. Therefore, the language the EPA is promulgating for 40 CFR 63.9600 does not include that language from 40 CFR 63.6(e)(1) after July 28, 2020.

2. SSM Plan

We are finalizing revisions to the General Provisions applicability table (Table 2) of 40 CFR part 63, subpart RRRRR, by adding an entry for 40 CFR 63.6(e)(3) and including “No” in column 3. Generally, the paragraphs under 40 CFR 63.6(e)(3) require development of an SSM plan and specify SSM recordkeeping and reporting requirements related to the SSM plan. As the EPA is removing the SSM exemptions, the affected units will be subject to an emission standard during such events, making an SSM plan unnecessary.

We are also finalizing revisions to the General Provisions applicability table (Table 2) of 40 CFR part 63, subpart RRRRR, by adding an entry for 40 CFR 63.6(e)(1)(ii) and including “No” in column 3. The paragraph under 40 CFR 63.6(e)(1)(ii) imposes requirements that are not necessary with the elimination of the SSM exemption or are redundant with the general duty requirement being added at 40 CFR 63.9600.

3. Compliance With Standards

We are finalizing revisions to the General Provisions applicability table (Table 2) of 40 CFR part 63, subpart RRRRR by adding an entry for 40 CFR 63.6(f)(1) and including “No” in column 3. The paragraph under 40 CFR 63.6(f)(1), which exempted sources from non-opacity standards during periods of SSM, was vacated by the Court in Sierra Club v. EPA as discussed above.

We also are finalizing revisions to the General Provisions applicability table (Table 2) of 40 CFR part 63, subpart RRRRR by adding an entry for 40 CFR 63.6(h)(1) and including “No” in column 3. The paragraph under 40 CFR 63.6(h)(1), which exempted sources from opacity standards during periods of SSM, was also vacated by the Court in Sierra Club v. EPA. Consistent with the Court mandate, the EPA is finalizing revisions to standards in this rule to ensure that a CAA section 112 standard applies at all times.

4. Performance Testing

We are finalizing revisions to the General Provisions applicability table (Table 2) of 40 CFR part 63, subpart RRRRR by adding an entry for 40 CFR 63.7(e)(1) and including “No” in column 3. The paragraph under 40 CFR 63.7(e)(1) describes performance testing requirements. The EPA is instead adding a performance testing requirement at 40 CFR 63.9621. The performance testing requirements we are adding differ from the General Provisions performance testing provisions in several respects. The regulatory text does not include the language in 40 CFR 63.7(e)(1) that restated the SSM exemption and language that precluded startup and shutdown periods from being considered “representative” for purposes of performance testing. The revised performance testing provisions require testing under representative operating conditions and exclude periods of startup and shutdown.

As in 40 CFR 63.7(e)(1), performance tests conducted under this subpart should not be conducted during malfunctions because conditions during malfunctions are often not representative of normal operating conditions. The EPA is promulgating language that requires the owner or operator to record the process information that is necessary to document operating conditions during the test and include in this record an explanation to support that such conditions represent normal operation. The paragraph under 40 CFR 63.7(e) requires that the owner or operator make available to the Administrator on request such records “as may be necessary to determine the condition of the performance test” but does not specifically require the information to be recorded. The regulatory text the EPA is adding to this provision builds on that requirement and makes explicit the requirement to record the information.

5. Monitoring

We are finalizing revisions to the General Provisions applicability table (Table 2) of 40 CFR part 63, subpart RRRRR by adding entries for 40 CFR 63.8(c)(1)(i) and (iii) and including “No” in column 3. The cross-references to the general duty and SSM plan requirements in those subparagraphs are not necessary in light of other requirements of 40 CFR 63.8 that require good air pollution control practices (40 CFR 63.8(c)(1)) and that set out the requirements of a quality control program for monitoring equipment (40 CFR 63.8(d)).

We are finalizing revisions to the General Provisions applicability table (Table 2) of 40 CFR part 63, subpart RRRRR by adding an entry for 40 CFR 63.8(d)(3) and including “No” in column 3. The final sentence in 40 CFR 63.8(d)(3) refers to the General Provisions' SSM plan requirement which is no longer applicable. The EPA is adding to the rule at 40 CFR 63.9632(b)(5) text that replaces 40 CFR 63.8(d)(3) and removes the reference to the SSM plan.

6. Recordkeeping

We are finalizing revisions to the General Provisions applicability table (Table 2) of 40 CFR part 63, subpart RRRRR by adding an entry for 40 CFR 63.10(b)(2)(i) and including “No” in column 3. Paragraph 40 CFR 63.10(b)(2)(i) describes the recordkeeping requirements during startup and shutdown. These recording provisions are no longer necessary because the EPA is requiring that recordkeeping and reporting applicable to normal operations would apply to startup and shutdown. In the absence of special provisions applicable to startup and shutdown, such as a startup and shutdown plan, there is no reason to retain additional recordkeeping for startup and shutdown periods. Provisions are added to 40 CFR 63.9642 that specify records that must be kept when there is a failure to meet an applicable standard.

We are finalizing revisions to the General Provisions applicability table (Table 2) of 40 CFR part 63, subpart RRRRR by adding an entry for 40 CFR 63.10(b)(2)(ii) and including “No” in column 3. Paragraph 40 CFR 63.10(b)(2)(ii) describes the recordkeeping requirements during a malfunction. The EPA is adding such requirements to 40 CFR 63.9642. The regulatory text we are adding differs from the General Provisions it is replacing in that the General Provisions requires the creation and retention of a record of the occurrence and duration of each malfunction of process, air pollution control, and monitoring equipment. The EPA is finalizing this requirement to apply to any failure to meet an applicable standard and is requiring the source to record the date, time, and duration of the failure. The EPA is also adding to 40 CFR 63.9642 the requirement that sources keep records that include a list of the affected source or equipment and actions taken to minimize emissions, an estimate of the quantity of each regulated pollutant emitted over the standard for which the source failed to meet the standard, and a description of the method used to estimate the emissions. The EPA is requiring that sources keep records of this information to ensure that there is adequate information to allow the EPA to determine the severity of any failure to meet a standard, and to provide data that may document how the source met the general duty to minimize emissions when the source has failed to meet an applicable standard.

We are finalizing revisions to the General Provisions applicability table (Table 2) of 40 CFR part 63, subpart RRRRR by adding an entry for 40 CFR 63.10(b)(2)(iv) and including “No” in column 3. When applicable, the provision requires sources to record actions taken during SSM events when actions were inconsistent with their SSM plan. The requirement is no longer appropriate because SSM plans would no longer be required. The requirement previously applicable under 40 CFR 63.10(b)(2)(iv) to record actions to minimize emissions and record corrective actions during SSM is now applicable at all times by 40 CFR 63.9642.

We are finalizing revisions to the General Provisions applicability table (Table 2) of 40 CFR part 63, subpart RRRRR by adding an entry for 40 CFR 63.10(b)(2)(v) and including “No” in column 3. When applicable, the provision requires sources to record actions taken during SSM events to show that actions taken were consistent with their SSM plan. The requirement is no longer appropriate because SSM plans would no longer be required.

We are finalizing revisions to the General Provisions applicability table (Table 2) of 40 CFR part 63, subpart RRRRR by adding an entry for 40 CFR 63.10(c)(15) and including “No” in column 3. Because the SSM plan requirement is being eliminated, 40 CFR 63.10(c)(15) no longer applies. When applicable, the provision allowed an owner or operator to use the affected source's SSM plan or records kept to satisfy the recordkeeping requirements of the SSM plan, specified in 40 CFR 63.6(e), to also satisfy the requirements of 40 CFR 63.10(c)(10) through (12). The EPA is eliminating this requirement because SSM plans are no longer required, and, therefore, 40 CFR 63.10(c)(15) no longer serves any useful purpose for affected units.

7. Reporting

We are finalizing revisions to the General Provisions applicability table (Table 2) of 40 CFR part 63, subpart RRRRR by adding an entry for 40 CFR 63.10(d)(5) and including “No” in column 3. Paragraph 40 CFR 63.10(d)(5) describes the reporting requirements for SSM. We are no longer requiring owners or operators to determine whether actions taken to correct a malfunction are consistent with an SSM plan, because plans are no longer required. To replace the General Provisions reporting requirement, the EPA is adding reporting requirements to 40 CFR 63.9641. The replacement language differs from the General Provisions requirement in that it eliminates periodic SSM reports as a stand-alone report. We are adding language that requires sources that fail to meet an applicable standard at any time to report the information concerning such events in the semiannual reporting period compliance report already required under this rule. We are requiring the report to contain the date, time, duration, and the cause of such events (including unknown cause, if applicable), a list of the affected source or equipment, an estimate of the quantity of each regulated pollutant emitted over any emission limit, and a description of the method used to estimate the emissions. The EPA is promulgating this requirement to ensure that there is adequate information to determine compliance, to allow the EPA to determine the severity of the failure to meet an applicable standard, and to provide data that may document how the source met the general duty to minimize emissions during a failure to meet an applicable standard.

We are no longer requiring owners or operators to determine whether actions taken to correct a malfunction are consistent with an SSM plan, because plans are no longer required. These final amendments, therefore, eliminate from this section the cross-reference to 40 CFR 63.10(d)(5) that contains the description of the previously required SSM report format and submittal schedule. These specifications are no longer necessary because the SSM events would be reported in otherwise required periodic reports with similar format and submittal requirements.

D. What other changes have been made to the NESHAP?

Other amendments to the NESHAP that do not fall into the categories in the previous sections include:

• Requiring that owners or operators of taconite iron ore processing plants submit electronic copies of required performance test reports and compliance reports through the EPA's Central Data Exchange (CDX) using the Compliance and Emissions Data Reporting Interface (CEDRI);

• Reducing the minimum time for test runs for performance tests conducted on ore crushing and handling, finished pellet handling, ore drying, and indurating furnace affected sources from 2 hours for each test run to 1 hour for each test run;

• Removing pressure drop as a monitoring option for dynamic wet scrubbers and requiring that the owner or operator establish and monitor the scrubber water flow rate and fan amperage; and

• Removing the requirements for conducting quarterly internal baghouse inspections for baghouses equipped with a bag leak detection system that is installed, operated, and maintained in compliance with the requirements in the Taconite Iron Ore Processing NESHAP.

We are also finalizing various other changes to clarify testing, monitoring, recordkeeping, and reporting requirements and to correct typographical errors, including:

• Revisions to 40 CFR 63.9600(b)(2) to clarify when a BLDS alarm becomes an operating system deviation;

• Revisions to 40 CFR 63.9620(f) and 63.9634(b)(3) to resolve conflicting provisions;

• Revisions to 40 CFR 63.9621(b) that clarify the test methods and procedures that must be used to determine compliance with the applicable emission limits for PM;

• Revisions to 40 CFR 63.9622(d)(2), which establishes the operating limits for wet electrostatic precipitators;

• Revisions to the introductory paragraph of 40 CFR 63.9625 to clarify the requirements for demonstrating initial compliance for air pollution control devices subject to operating limits;

• Revisions to 40 CFR 63.9632(b) to clarify the requirements for continuous parameter monitoring systems (CPMS);

• Revisions to 40 CFR 63.9632(f) to clarify the requirements for continuous opacity monitoring systems (COMS);

• Revisions to 40 CFR 63.9633(a) and (b) to clarify the monitoring and data collection requirements;

• Revisions to 40 CFR 63.9634(d) to clarify the requirements for baghouses for determining continuous compliance with emission limits;

• Revisions to 40 CFR 63.9634(h)(1) and 40 CFR 63.9634(j)(1) and (2) for clarification;

• Revisions to 40 CFR 63.9641(b)(7) and (8) to clarify the reporting requirements for deviations from emission limitations;

• Revisions to the recordkeeping requirements in 40 CFR 63.9642(a) and (b) to clarify what information must be recorded when an applicable standard is not met as well as what information is required in a performance evaluation plan; and

• Removal of the definitions of conveyor belt transfer point and wet grinding and milling because the terms are not used in the rule, and the addition of a definition of wet scrubber.

E. What are the effective and compliance dates of the revisions to the NESHAP?

The revisions to the NESHAP being promulgated in this action are effective on July 28, 2020. The compliance date for the revised requirements for affected sources that commenced construction or reconstruction on or before September 25, 2019, is January 25, 2021, with an exception for the revised provisions that apply to dynamic wet scrubbers, which have a compliance date of January 28, 2022. The compliance date for the revised requirements for affected sources that commence construction or reconstruction after September 25, 2019, is the effective date of the standard, July 28, 2020, or upon startup, whichever is later.

IV. What is the rationale for our final decisions and amendments for the Taconite Iron Ore Processing source category?

For each issue, this section provides a description of what we proposed and what we are finalizing, the EPA's rationale for the final decisions and amendments, and a summary of key comments and responses. For all comments not discussed in this preamble, comment summaries and the EPA's responses can be found in the National Emissions Standards for Hazardous Air Pollutants: Taconite Iron Ore Processing Residual Risk and Technology Review Summary of Public Comments and Responses, which is available in the docket.

A. Residual Risk Review for the Taconite Iron Ore Processing Source Category

1. What did we propose pursuant to CAA section 112(f) for the Taconite Iron Ore Processing source category?

Pursuant to CAA section 112(f), the EPA conducted a residual risk review and presented the results of this review, along with our proposed decisions regarding risk acceptability, ample margin of safety, and adverse environmental effects, in the September 25, 2019, proposed rule (84 FR 50660). The results of the risk assessment for the proposal are presented briefly in Table 2 of this preamble. More detail is in the residual risk document, Residual Risk Assessment for the Taconite Iron Ore Processing Source Category in Support of the 2019 Risk and Technology Review Proposed Rule (also referred to as the Taconite Risk Report in this preamble), which is available in the docket for this rulemaking (Docket Item No. EPA-HQ-OAR-2017-0664-0130).

Table 2—Taconite Iron Ore Processing Source Category Inhalation Risk Assessment Results at Proposal
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer TOSHI ¹: Based on actual emissions | Maximum chronic noncancer TOSHI ¹: Based on allowable emissions | Maximum screening acute noncancer HQ ²: Based on actual emissions
Source Category | 2 | 6 | 38,000 | 43,000 | 0.001 | 0.001 | 0.2 | 0.2 | HQREL = <1
Whole Facility | 2 |  | 40,000 |  | 0.001 |  | 0.2 |  |
¹ The target organ-specific hazard index (TOSHI) is the sum of the chronic noncancer hazard quotients (HQs) for substances that affect the same target organ or organ system.
² The maximum estimated acute exposure concentration was divided by available short-term threshold values to develop HQ values.

The results of the proposal inhalation risk modeling, as shown in Table 2 of this preamble, indicate that the maximum individual cancer risk based on actual emissions (lifetime) was estimated to be 2-in-1 million (driven by arsenic and nickel from fugitive dust and indurating sources), the estimated maximum chronic noncancer TOSHI value based on actual emissions was 0.2 (driven by manganese compounds from fugitive dust and ore crushing sources), and the maximum screening acute noncancer HQ value (off-facility site) was less than 1 (driven by arsenic from fugitive dust and ore crushing sources). The total estimated annual cancer incidence (national) from these facilities based on actual emission levels was 0.001 excess cancer cases per year or 1 case in every 1,000 years.

The results of the proposal inhalation risk modeling using allowable emissions data (lifetime), as shown in Table 2, indicate that the estimated maximum individual cancer risk was 6-in-1 million (driven by arsenic and nickel from fugitive dust and indurating sources) and the maximum chronic noncancer TOSHI value was 0.2 (driven by manganese compounds from fugitive dust and ore crushing sources). At proposal, the total annual cancer incidence (national) from these facilities based on allowable emissions was estimated to be 0.001 excess cancer cases per year, or one case in every 1,000 years.

At proposal, the maximum facility-wide cancer maximum individual risk (MIR) was estimated to be 2-in-1 million, driven by arsenic and nickel from fugitive dust and indurating emissions. The maximum facility-wide TOSHI for the source category was estimated to be 0.2, mainly driven by emissions of manganese from fugitive dust and ore crushing emissions. The total estimated cancer incidence from the whole facility was determined to be 0.001 excess cancer cases per year, or one excess case in every 1,000 years.

At proposal, potential multipathway health risks were also considered. Based upon the maximum Tier 2 screening values for mercury (fisher scenario) and arsenic (fisher and gardener scenario) occurring from the same location, we proceeded to a site-specific assessment using Total Risk Integrated Methodology. Fate, Transport, and Ecological Exposure model (TRIM.FaTE). We also selected the same site for assessing noncancer risks from cadmium utilizing the fisher scenario as the site was comparable to the maximum Tier 2 location. The selected site represents the combined contribution of mercury, arsenic, and cadmium emissions from five taconite iron ore processing plants. The site selected was modeled using TRIM.FaTE to assess cancer risk from arsenic emissions and noncancer risks from mercury and cadmium emissions for the fisher and gardener scenarios. The final cancer risk based upon the fisher scenario and gardener scenario was less than 1-in-1 million from arsenic emissions. The final noncancer risks had a hazard index (HI) less than 1 for mercury (0.02) and for cadmium (0.01). Based on these results, at proposal we concluded that there is no significant potential for multipathway health effects.

At proposal, we conducted an environmental risk screening assessment for the Taconite Iron Ore Processing source category for the following pollutants: Arsenic, cadmium, dioxins/furans, HCl, HF, lead, mercury (methyl mercury and mercuric chloride), and polycyclic organic matter. Based on this evaluation, we proposed that we do not expect an adverse environmental effect as a result of HAP emissions from this source category.

We weighed all health risk factors, including those shown in Table 2 of this preamble, in our risk acceptability determination and proposed that the residual risks from the Taconite Iron Ore Processing source category are acceptable (see section IV.A.2.a of the proposal preamble, 84 FR 50677, September 25, 2019).

We then considered whether 40 CFR part 63, subpart RRRRR provides an ample margin of safety to protect public health and prevents, taking into consideration costs, energy, safety, and other relevant factors, an adverse environmental effect. In considering whether the standards should be tightened to provide an ample margin of safety to protect public health, we considered the same risk factors that we considered for our acceptability determination and also considered the costs, technological feasibility, and other relevant factors related to emissions control options that might reduce risk associated with emissions from the source category. In this analysis, we focused on cancer risks since all the chronic and acute noncancer HIs and HQs are below the level of concern. The cancer risks are driven by metal HAP emissions (e.g., arsenic, nickel, and chromium VI) from indurating furnaces and fugitive dust sources. The indurating furnaces are currently controlled via wet scrubbers. At proposal, we evaluated the option of reducing emissions from indurating furnaces by installing a wet electrostatic precipitator (wet ESP) after the existing wet scrubbers. Under this scenario, we estimated that the current metal HAP emissions would be reduced by about 99.9 percent, and the MIR would be reduced from 2-in-1 million based on actual emissions and 6-in-1 million based on allowable emissions to less than 1-in-1 million for both actual and allowable emissions. We estimated annual costs of about $167 million for the industry, with a cost effectiveness of about $16 million per ton of metal HAP reduced. Due to the relatively small reduction in risk and the substantial costs associated with this option, we proposed that additional emissions controls for metal HAP from indurating furnaces are not necessary to provide an ample margin of safety to protect public health. See the technical memorandum titled Taconite Iron Ore Processing—Ample Margin of Safety Analysis, available in Docket ID No. EPA-HQ-OAR-2017-0664, for details.

For the other affected sources that emit metal HAP (i.e., ore crushing and handling operations, finished pellet handling operations, ore drying, and sources subject to the fugitive dust emission control plan), we proposed that additional emissions controls for metal HAP from these affected sources are not necessary to provide an ample margin of safety to protect public health because the risk reduction would be minimal since about 98 percent of the HAP emissions are from the indurating furnaces. Moreover, we did not identify any developments in practices, processes, and control technologies under the technology review that we could evaluate for achieving additional reductions from these other affected sources.

Given the substantial costs for the enhanced control scenario we identified for the source category that would reduce HAP emissions and considering the small reduction in the already low baseline risk, we proposed that additional emission controls for this source category are not necessary to provide an ample margin of safety (refer to section IV.A.2.b of the proposal preamble, 84 FR 50677, September 25, 2019).

2. How did the risk review change for the Taconite Iron Ore Processing source category?

We received comments both supporting and opposing the proposed residual risk review and our proposed determination that the existing standards protect public health with an ample margin of safety and additional control is not needed to protect against an adverse environmental effect under CAA section 112(f)(2). One commenter provided updated actual and effective production rates and actual fuel use data for two taconite facilities. The EPA utilized the provided data to revise the emissions dataset memorandum for this source category (which is available in the docket for this rulemaking). The final risk assessment report (also available in the docket for this rulemaking) reflects these emissions changes. Since the resulting emissions changes are relatively small and are restricted to just two facilities, we did not remodel the risk for the source category. Instead, we used the revised emissions data to scale the risks up or down, as appropriate, for the two subject facilities. Table 3 of this preamble shows the final risk assessment results after the incorporation of the updated emissions data. There were no resulting changes to the chronic noncancer risks, acute risks, or multipathway risks. There were small changes in the chronic cancer MIRs. Specifically, based on actual emissions, the MIR for both the source category and whole facility increased from 2-in-1 million to 3-in-1 million. Also, based on allowable emissions, the MIR for the source category decreased from 6-in-1 million to 5-in-1 million.

After a review of all of the public comments received and the revised risk estimates, we determined that no changes to our risk review conclusions are necessary.

Table 3—Taconite Iron Ore Processing Source Category Inhalation Risk Assessment Final Results After Emissions Updates
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer TOSHI ¹: Based on actual emissions | Maximum chronic noncancer TOSHI ¹: Based on allowable emissions | Maximum screening acute noncancer HQ ²: Based on actual emissions
Source Category | 3 | 5 | 38,000 | 43,000 | 0.001 | 0.001 | 0.2 | 0.2 | HQREL = <1
Whole Facility | 3 |  | 40,000 |  | 0.001 |  | 0.2 |  |
¹ The TOSHI is the sum of the chronic noncancer HQs for substances that affect the same target organ or organ system.
² The maximum estimated acute exposure concentration was divided by available short-term threshold values to develop HQ values.

3. What comments did we receive on the risk review?

We received comments in support of and against the proposed residual risk reviews and our determinations that no revisions were warranted under CAA section 112(f)(2) for the Taconite Iron Ore Processing source category. One commenter provided updated production and fuel use data for two taconite facilities. The EPA utilized the provided data to revise the emissions dataset memorandum for this source category (which is available in the docket for this rulemaking). The final risk assessment report (also available in the docket for this rulemaking) reflects these emissions changes.

Other comments were received on the air dispersion modeling methods used, the treatment of mercury in the risk assessment (e.g., mercury deposition, methylation, and speciation), the exclusion of non-taconite HAP emissions from the risk assessment (e.g., mobile sources, natural sources, and historical emissions), our risk assessment of lead, the multipathway analysis, the environmental justice analysis, and the ample margin of safety analysis. More details on these and other comments received, and our responses, can be found in the document titled National Emissions Standards for Hazardous Air Pollutants: Taconite Iron Ore Processing Residual Risk and Technology Review Summary of Public Comments and Responses, which is available in the docket for this action.

4. What is the rationale for our final approach and final decisions for the risk review?

For the reasons explained in the proposed rule, the Agency determined that the risks from the Taconite Iron Ore Processing source category are acceptable, and the current standards provide an ample margin of safety to protect public health and prevent an adverse environmental effect. We did not receive any data or other information since proposal that supports a change to our proposed determination. Therefore, as proposed, we are not revising 40 CFR part 63, subpart RRRRR, to require additional controls pursuant to CAA section 112(f)(2) based on the residual risk review and we are readopting the existing emissions standards under CAA section 112(f)(2).

B. Technology Review for the Taconite Iron Ore Processing Source Category

1. What did we propose pursuant to CAA section 112(d)(6) for the Taconite Iron Ore Processing source category?

Pursuant to CAA section 112(d)(6), the EPA conducted a technology review and summarized the results of the review in the September 25, 2019, proposal preamble (see section IV.B of the proposal preamble, 84 FR 50678) and in more detail in the memorandum, Draft Technology Review for the Taconite Iron Ore Processing Source Category, which is available in the docket for this action (Docket Item No. EPA-HQ-OAR-2017-0664-0103). The technology review investigated practices, processes, and controls with a view toward identifying developments, which may be any of the following:

• Any add-on control technology or other equipment that was not identified and considered during development of the original MACT standards;

• Any improvements in add-on control technology or other equipment (that were identified and considered during development of the original MACT standards) that could result in significant additional emissions reduction;

• Any work practice or operational procedure that was not identified or considered during development of the original MACT standards;

• Any process changes or pollution prevention alternatives that could be broadly applied to the industry and that were not identified or considered during development of the original MACT standards; and

• Any significant changes in the cost (including cost effectiveness) of applying add-on control technology or other equipment to affected sources (including controls the EPA considered during the development of the original MACT standards).

New technologies were identified that improved the efficiency of processes and increased plant production capacity but have no demonstrated ability to reduce HAP emissions. For the control of metal HAP emissions from taconite iron ore processing, all of the technologies identified were in use in the industry during development of the original 40 CFR part 63, subpart RRRRR MACT standards and we did not identify any significant changes in improved control or in cost or cost effectiveness of applying these technologies to taconite iron ore processing facilities. Based on information available to the EPA, the technology review did not identify any developments in practices, processes, or control technologies that would reduce HAP emissions from ore crushing and handling, pellet indurating, pellet handling, ore drying, and/or fugitive dust emission sources.

2. How did the technology review change for the Taconite Iron Ore Processing source category?

The technology review for the Taconite Iron Ore Processing source category has not changed since proposal. As proposed, the EPA is not making changes to the standards pursuant to CAA section 112(d)(6).

3. What comments did we receive on the technology review?

Comments were received that were both supportive of the technology review as well as critical of the technology review. The comments received related to the EPA's decision not to establish mercury standards pursuant to CAA section 112(d)(6) in this action, and our responses to those comments, are provided below. Other comments related to the technology review, and our responses to those comments, can be found in the document titled National Emissions Standards for Hazardous Air Pollutants: Taconite Iron Ore Processing Residual Risk and Technology Review Summary of Public Comments and Responses, which is available in the docket for this action.

Comment: Several commenters stated that the technology review memorandum states that no new technologies have been identified with regard to mercury emissions. These commenters point out that in 2018, the taconite iron ore processing facilities submitted mercury reduction plans (MRP) to the Minnesota Pollution Control Agency (MPCA) to explain how they planned to reduce their mercury emissions to help the state reach its mercury Total Maximum Daily Load goals. However, the EPA did not list the MRP in the sources of information it considered in its technology review nor did the Agency explain why it did not do so. The commenters contended these documents on the control technologies that are potentially applicable to this industry, identifying technologies such as activated carbon injection with halide or bromide added. Other commenters stated that the EPA indicated that they include the MRP because the MRP addresses water quality issues.

These commenters also identified what they claimed are outdated sources of information and asserted that the EPA's use of outdated technological reports that do not address potential mercury controls indicates that the EPA had already decided not to require mercury controls but to continue to rely on PM as a surrogate. These commenters contend that the EPA's technology review is incomplete because it fails to even discuss potential mercury controls and that the decision not to do so is arbitrary and capricious, especially given the poor quality of the EPA's risk analysis.

Response: The commenters are mistaken in saying that the technology review addressed mercury emissions from taconite iron ore processing facilities but found no new technologies to control mercury. The EPA reads CAA section 112(d)(6) as a limited provision requiring the Agency to review the emission standards already promulgated in the NESHAP and to revise those standards as necessary taking into account developments in practices, processes, and control technologies. The EPA does not read this provision as directing the Agency, as part of or in conjunction with the mandatory 8-year technology review, to develop new emission standards to address HAP or emission points for which standards were not previously promulgated.² Neither the proposed rule nor the technology review memorandum (Docket Item No. EPA-HQ-OAR-2017-0664-0103) for the proposed rule addressed potential controls for mercury emissions.

² On April 21, 2020, as the Agency was preparing the final rule for signature, a decision was issued in LEAN v. EPA, 955 F. 3d. 1088 (D.C. Cir. 2020) in which the Court held that the EPA has an obligation to set standards for unregulated pollutants as part of technology reviews under CAA section 112(d)(6). At the time of signature, the mandate in that case had not been issued and the EPA is continuing to evaluate the decision.

We note that these MRP are still under review by MPCA and that the technologies discussed therein have only been applied at the taconite processing facilities in pilot scale studies. That is, these control technologies remain unproven at commercial scale and the amount of mercury reduction achieved by them remain uncertain. Also, as noted, the EPA did not regulate mercury in the 2003 NESHAP and the PM standard which is a surrogate for multiple HAP was not established as a surrogate for mercury.

4. What is the rationale for our final approach for the technology review?

For the reasons explained in the preamble to the proposed rule, we determined there were no developments under CAA section 112(d)(6) (84 FR 50678). Since proposal, neither the technology review nor our determination that there were no developments for affected sources has changed, and we are not revising 40 CFR part 63, subpart RRRRR, pursuant to CAA section 112(d)(6). The final technology review, Final Technology Review for the Taconite Iron Ore Processing Source Category, is available in the docket for this action (Docket ID No. EPA-HQ-OAR-2017-0664).

C. SSM for the Taconite Iron Ore Processing Source Category

1. What did we propose for the Taconite Iron Ore Processing source category?

We proposed amendments to the NESHAP for Taconite Iron Ore Processing to remove and revise provisions related to SSM that are not consistent with the requirement that the standards apply at all times. More information concerning the elimination of SSM provisions is in the preamble to the proposed rule (84 FR 50678-50681, September 25, 2019).

2. How did the SSM provisions change for the Taconite Iron Ore Processing source category?

The removal and revision of the SSM provisions for the Taconite Iron Ore Processing source category have not changed since proposal. We are finalizing the removal and revisions of the SSM provisions as proposed, with no changes.

3. What key comments did we receive on the SSM provisions, and what are our responses?

We received five comments related to our proposed revisions to the SSM provisions. The comments were generally supportive of the amendments to require the emission standards to apply at all times. The comments and our responses can be found in the National Emissions Standards for Hazardous Air Pollutants: Taconite Iron Ore Processing Residual Risk and Technology Review Summary of Public Comments and Responses, which is available in the docket for this action.

4. What is the rationale for our final approach for the SSM provisions?

We evaluated all comments on the EPA's proposed amendments to the SSM provisions. For the reasons explained in the proposed rule, we determined that these amendments remove and revise provisions related to SSM that are not consistent with the requirement that the standards apply at all times. More information concerning the amendments we are finalizing for SSM is in the preamble to the proposed rule (84 FR 50678—50684, September 25, 2019) and in section III.C of this preamble. Therefore, we are finalizing our approach for the SSM provisions as proposed.

D. Other Amendments to the Taconite Iron Ore Processing NESHAP

1. What amendments did we propose?

In the September 25, 2019, action, we proposed the following amendments to the rule:

• We proposed that owners or operators of taconite iron ore processing plants submit electronic copies of required performance test reports and compliance reports through the EPA's CDX using CEDRI.

• We proposed that the minimum duration for test runs for performance tests conducted on ore crushing and handling, finished pellet handling, ore drying, and indurating furnace affected sources be reduced from a minimum of 2 hours for each test run to a minimum of 1 hour for each test run, with the stipulation that if test results indicate emissions are below the method detection limit, then the source's emissions will be assumed equal to the method detection limit when using the results to determine compliance with the MACT standards.

• We proposed the removal of the requirement to conduct quarterly internal baghouse inspections whenever a baghouse is equipped with a BLDS that is installed, operated, and maintained in compliance with the requirements in the Taconite Iron Ore Processing NESHAP.

• We proposed to remove pressure drop as a monitoring option for dynamic wet scrubbers and instead require that the scrubber water flow rate and fan amperage be monitored.

• We proposed a determination that a compound referred to as non-asbestiform amphibole EMP is not a HAP and is, thus, not subject to regulation under CAA section 112.

We also proposed various changes to clarify testing, monitoring, recordkeeping, and reporting requirements and to correct typographical errors, including:

• Revisions to 40 CFR 96.9583 to clarify the dates by which the owners or operators of taconite iron ore processing facilities must comply with the proposed amendments;

• Revisions to 40 CFR 63.9600(b)(2) to clarify when a BLDS alarm becomes an operating system deviation;

• Revisions to 40 CFR 63.9620(f) and 63.9634(b)(3) to resolve conflicting provisions;

• Revisions to 40 CFR 63.9621(b) that clarify the test methods and procedures that must be used to determine compliance with the applicable emission limits for PM;

• Revisions to 40 CFR 63.9622(d)(2), which establishes the operating limits for wet ESP;

• Revisions to the introductory paragraph of 40 CFR 63.9625 to clarify the requirements for demonstrating initial compliance for air pollution control devices subject to operating limits;

• Revisions to 40 CFR 63.9632(a) to specify different detection limits for BLDS installed after the September 25, 2019, proposal date;

• Revisions to 40 CFR 63.9632(b) to clarify the requirements for CPMS;

• Revisions to 40 CFR 63.9632(f) to clarify the requirements for COMS;

• Revisions to 40 CFR 63.9633(a) and (b) to clarify the monitoring and data collection requirements;

• Revisions to 40 CFR 63.9634(d) to clarify the requirements for baghouses for determining continuous compliance with emission limits;

• Revisions to 40 CFR 63.9634(h)(1) and 40 CFR 63.9634(j)(1) and (2) for clarification;

• Revisions to 40 CFR 63.9641(b)(7) and (8) to clarify the reporting requirements for deviations from emission limitations;

• Revisions to the recordkeeping requirements in 40 CFR 63.9642(a) and (b) to clarify what information must be recorded when an applicable standard is not met as well as what information is required in a performance evaluation plan; and

• Removal of the definitions of conveyor belt transfer point and wet grinding and milling because the terms are not used in the rule, and the addition of a definition of wet scrubber.

We also considered a few other potential amendments to the rule that had been requested by industry, but because we did not have adequate information or data to support a proposed change, we did not propose them as amendments to the rule. Instead, we described the potential amendments that industry requested and solicited comments, data, and any information as to whether the changes were appropriate. The three changes requested by industry for which we solicited information include the following:

• A reduction in the required testing frequency for indurating furnaces from twice per 5-year permit term to once per 5-year permit term;

• An increase in the time allowed after a BLDS alarm to initiate corrective action; and

• An increase from six to 10 for the number of ore crushing and handling operations or finished pellet handling operations that can be considered similar and represented by an emissions test on a single representative unit.

These requested amendments were described in the preamble to the proposed rule (84 FR 50682-50683, September 25, 2019).

2. How did the requirements change since proposal?

Based on the consideration of comments received, we are finalizing all of the proposed amendments with the exception that we are not finalizing the proposed amendment to clarify compliance dates in 40 CFR 63.9583 and the proposed amendment that would have required new BLDS to be more sensitive than existing ones. For those issues on which we solicited additional information, we did not receive sufficient information or data that supported making those changes to the NESHAP at this time.

3. What key comments did we receive and what are our responses?

We received several comments regarding our proposal that a compound referred to as non-asbestiform amphibole EMP is not a HAP and is, thus, not subject to regulation under CAA section 112. A summary of these comments and our responses is provided below. Comments and our responses associated with the other proposed changes were generally supportive and can be found in the National Emissions Standards for Hazardous Air Pollutants: Taconite Iron Ore Processing Residual Risk and Technology Review Summary of Public Comments and Responses, which is available in the docket for this action.

Comment 1: Several commenters stated that the EPA refuses to set emission limits for EMP, even though it committed to doing so in its 2004 voluntary partial remand in a legal challenge to the 2003 MACT standards. National Wildlife Federation et. al. v. EPA (D.C. Cir. No. 03-1548) (NWF). The EPA's justification is that EMP are not classified as asbestos nor are they included on the EPA's list of HAP. However, there is no requirement in the remand for EMP to be listed as a HAP for it to be controlled—the remand simply says the EPA will set an emission standard. These commenters also stated that just because EMP are not classified as asbestos nor currently listed as HAP does not mean that they do not cause health problems. This argument ignores the significantly higher rates of mesothelioma on Minnesota's Iron Range, which has been studied by the University of Minnesota and the Minnesota Department of Health (MDH). The MDH study found a 3-percent increase in the risk of contracting mesothelioma for each year of employment in the taconite iron ore industry. According to the commenters, the study shows that taconite iron ore workers have an established risk for mesothelioma related to cumulative EMP exposure although the type of EMP (asbestiform or non-asbestiform) accounting for this association has not been determined with certainty; nor is there certainty as to whether the EMP over 5 micrometers in length are the best metric in this situation, given that the predominant EMP exposure is to minerals 1-3 micrometers in length. According to the commenters, the study further notes that because of the lack of quantitative data on non-asbestiform amphibole EMP, there remains uncertainty on the role of this exposure and the association with mesothelioma and there is additional uncertainty due to the lack of quantitative data on historical exposure to asbestiform EMP from commercial asbestos use. The commenters stated that this report establishes the uncertainties of whether EMP can be implicated in the higher rates of mesothelioma among taconite iron ore workers. One commenter points this out to show why the EPA should act conservatively by setting EMP emissions limits at these facilities. One commenter stated that maintaining good air quality at industrial mining operations is of great importance to the people of northeastern Minnesota, particularly taconite iron ore workers, their families and communities, and to the physicians who serve and care for them. There are serious health risks documented in connection with PM, and also EMP. The EPA should put forth rules that will protect the public and, therefore, should not preclude EMP from regulation when their contribution to human illness is not adequately understood.

Response: Although some research suggests that non-asbestiform amphibole EMP may impact human health (although there is certainly no consensus, and indeed, much uncertainty as to the extent of their impact on human health), the issue for the EPA to regulate this pollutant under section 112 of the CAA is whether it is a HAP. As the EPA discussed in the proposal preamble (84 FR 50683-50684, September 25, 2019) and in the memorandum, EPA's Analysis of Elongated Mineral Particulate (available as Docket Item No. EPA-HQ-OAR-2017-0664-0131), non-asbestiform amphibole EMP, such as those emitted by this source category, are not a HAP as set forth in CAA section 112(b)(1). We do note that these non-asbestiform amphibole EMP are a subset of PM, and emissions of PM are regulated as a surrogate for certain HAP in the current NESHAP for this source category.

We recognize that the voluntary remand order in NWF provides for a remand to “enable [EPA] to propose a standard for asbestos and asbestos-like fiber emissions from taconite iron ore processing facilities.” At the time EPA requested the voluntary remand, EPA believed that these fibers were HAP subject to regulation under CAA section 112. Based on further analysis, and as explained in more detail in our proposed rule and in our analysis cited above, EPA has determined that the non-asbestiform EMP at issue are not a HAP. Thus, EPA is meeting the court order through this final action determining that it is not required to regulate the subject EMP under CAA section 112. To the extent that the commenter is contending that the court remand order obligates EPA to regulate EMP regardless of whether it has authority to do so under CAA section 112, we disagree. The scope of the litigation at issue was limited to EPA's obligation under CAA section 112(d)(2) and (3) to promulgate MACT standards and any remand order would need to fall within the scope of that legal challenge.

We also note that many of the concerns raised by the commenter appear to address workplace exposure to EMP. The EPA's authority under the CAA is to address pollutants in the ambient air and does not extend to regulating workplace exposure. The Occupational Safety and Health Administration typically addresses workplace exposure concerns.

Comment 2: Several commenters stated that the docket includes a 2019 report on EMP written by the American Iron and Steel Institute (AISI) and that if this is the only document the EPA used, then the EPA's analysis is biased and uninformed. There is no indication that the MDH had any input to this report. Emails between the EPA and MPCA staff found in the docket (regarding fibers emitted from the Northshore taconite facility) indicate that the MPCA does not take the same view as the EPA that the only issue is whether these fibers can be identified as asbestos. According to the commenters, the MPCA argues that scientific consensus is lacking on the public health implications for mineral fibers meeting the more inclusive definitions of an EMP, which can often be as broad as any respirable mineral particles found in the ambient air and, therefore, were taking an approach of precaution in their air permitting approach to the facility. These commenters stated that the docket includes a memorandum from Ann Foss of the MPCA explaining why the MPCA was proposing to change how it regulates EMP. While the MPCA is making changes in the air permit issued to Northshore Mining, it will still continue to regulate EMP, just with newer, statistically driven methods.

One commenter presented a schematic from a conference on EMP held in Charlottesville, Virginia, in October 2017 to illustrate the scope and complexity of EMP. The commenter stated that we do not know enough about EMP to make blanket statements about them and included quotes from the conference recognizing the uncertainty as to the toxicity and carcinogenicity associated with EMP as well as the underlying structural and compositional transformations and health outcomes associated with the various EMP.

The commenter indicated that in the memorandum EPA's Analysis of Elongated Mineral Particulate (Docket Item No. EPA-HQ-OAR-2017-0664-0131), the EPA pointed out that the fibers collected by ambient air monitors near the Peter Mitchell mine were non-asbestiform ferro-actinolite and grunerite, not asbestos. The commenter stated that toxicological studies have shown ferro-actinolite is at least as toxic as amosite in animal studies.

The commenter further stated that most studies in EMP science relate to the potential for EMP to cause mesothelioma and other lung malignancies. The commenter noted that the Taconite Workers Health Study (TWHS) also pointed out that there are significantly higher risks of nonmalignant lung disease and hypertensive heart disease in mine workers.

Response: The cited 2019 report on EMP written by AISI was not the only document that informed the EPA's decisions regarding non-asbestiform amphibole EMP. The docket for this rulemaking also includes two studies performed on the Peter Mitchell Mine (i.e., the taconite iron ore mine utilized by the Northshore facility) and on fibers found via ambient air monitoring near Silver Bay (i.e., the town near the associated taconite iron ore processing operations) and the referenced proposal by MPCA to modify its approach to regulating emissions of the subject non-asbestiform amphibole EMP, see Docket Item Nos. EPA-HQ-OAR-2017-0664-0138, -0127, and -0122, respectively.

As discussed in the response to Comment 1, above, the EPA did not cite a lack of human health impact, or the associated lack of consensus or certainty, as rationale for not establishing emissions standards for non-asbestiform amphibole EMP for this source category under CAA section 112. Rather, the rationale for not regulating these fibers directly through the NESHAP for Taconite Iron Ore Processing is that the non-asbestiform amphibole EMP are not a HAP as set forth in CAA section 112(b)(1).

The Minnesota regulations that apply to the “Minnesota Fibers” are not based on the authority of the CAA, but rather on Minnesota state law. The above-referenced MPCA proposal to change how it regulates these fibers contains a summary of these historical authorities. However, for the purposes of setting MACT standards, the EPA cannot use the state law authorities relied on by MPCA to regulate Minnesota Fibers (or any other pollutant) but rather only the authorities provided by CAA section 112. As the EPA previously noted, CAA section 112 does not provide the EPA with authority to regulate substances that are not listed as a HAP as set forth in CAA section 112(b)(1). Nevertheless, as mentioned in response above, these non-asbestiform amphibole EMP are a subset of PM, and emissions of PM are regulated as a surrogate for certain HAP in the current NESHAP for this source category.

Comment 3: One commenter stated that there is no need for the proposed rule to mention EMP, and, therefore, the EPA should remove this reference from the rule. The commenter stated that EMP as a broad class have not been defined to be a HAP under the CAA, and as such, they are not subject to regulation under CAA section 112. There is a specific class of EMP that is regulated: Commercial asbestos. The commenter pointed out two issues: (1) It is incorrect to state that the EPA does not regulate EMP, because the EPA does, in fact, regulate specific EMP (the prime example being commercial asbestos), and (2) stating that the EPA chooses not to regulate EMP gives the false impression they are not worthy of concern.

Response: As discussed in the response to Comment 1, above, non-asbestiform amphibole EMP are the subject of a 2004 remand of the NESHAP for Taconite Iron Ore Processing. The EPA is addressing that remand based on the convincing information supporting that these non-asbestiform amphibole EMP are not a HAP as set forth in CAA section 112(b)(1) and, thus, not subject to regulation under CAA section 112.

We regret any confusion that may have arisen in regard to the terms used in the preamble of the proposed rule to refer to the subject fibers, or any false impressions that may have resulted from our proposal to not regulate the subject non-asbestiform amphibole EMP under the NESHAP for Taconite Iron Ore Processing. The discussion of EMP in the preamble to the proposed rule was not intended to address all types of EMP but rather referred only to non-asbestiform amphibole EMP emitted from taconite iron ore processing. As the commenter points out, the EPA already does regulate the EMP that qualify as asbestos in other various NESHAP because asbestos is a HAP as set forth in CAA section 112(b)(1).

Comment 4: One commenter stated that following a challenge to the EPA decision that resulted in a partial voluntary remand of the original standards for the Taconite Iron Ore Processing source category, the EPA conducted a more fulsome analysis of the EMP compounds and correctly determined that non-asbestiform amphibole EMP emitted by the Taconite Iron Ore Processing source category does not meet the definition of asbestos or fine mineral fibers. Moreover, EMP is not listed as a HAP under the CAA. The commenter stated that the EPA is not obligated (and indeed is unable) to establish emission standards for these compounds under the Taconite Iron Ore Processing NESHAP, nor would it be appropriate to do so. The commenter further stated that as the preamble observes, the conclusion that EMP is not asbestos is supported not only by recent scientific developments, but also by the consistent definition of “asbestos” in other CAA and Toxic Substances Control Act regulations, such as, the National Emission Standard for Asbestos (40 CFR part 61, subpart M). Because the EMP compounds emitted from taconite facilities are not asbestiform and otherwise do not satisfy the elements of the definition, they are not asbestos.

The commenter also stated that EMP should not be regulated as a fine mineral fiber because it does not fit within the definition of that HAP. The preamble states that the “fine mineral fibers” definition specifically applies to synthetic vitreous fibers largely associated with processing of glass, rock, or slag fibers. Because this definition is specific and limited to particular fibers and clearly does not include EMP, the EPA reasonably concluded that EMP should not be regulated as fine mineral fibers.

Response: The EPA acknowledges and appreciates the support of this commenter. We do note, however, that our discussion of EMP in this rulemaking is restricted to those non-asbestiform EMP emitted from taconite iron ore processing, as discussed in the response to Comment 3, above. Other EMP may well meet the definition of “asbestos” or “fine mineral fibers” or some other HAP as set forth in CAA section 112(b)(1).

Comment 5: One commenter stated that the EPA's decision that regulation of EMP compounds under CAA section 112 is unnecessary is bolstered by studies published since 2003, which have found that EMP are less likely to cause hazardous health effects than asbestos. The commenter noted that those studies suggest that the lower health hazard may be due, in part, to the biological processes by which they are transported in tissue.

Response: As discussed in the responses to Comments 1 and 2, above, the Agency's basis for not regulating these fibers under the NESHAP for Taconite Iron Ore Processing is that they are not a HAP as set forth under CAA section 112(b)(1) and, therefore, the EPA does not have authority to regulate these fibers in the NESHAP. The EPA did not rely on health studies regarding these particles and our decision not to regulate these particles under the NESHAP should not be construed as a decision by the EPA on potential impacts of these non-asbestiform amphibole EMP on human health. That issue is outside the scope of this rulemaking.

Comment 6: One commenter stated that EMP are sufficiently controlled by PM control devices. The commenter noted that in the motion for a voluntary remand associated with the NESHAP, the EPA stated to the Court that it intends to propose that these fibers be regulated by using the emissions limitation for PM as a surrogate and to take public comment on such proposal. The commenter noted the EPA's position in the proposed RTR that EMP is not asbestos, thus, not HAP. The commenter stated that emissions of EMP are controlled by operating PM control devices, good fugitive dust management practices, and ongoing facility operation and maintenance, and that ambient air monitoring for EMP is a condition of the facility's air emissions operating permit, in effect and ongoing. The commenter believed that, after review of the EPA's assessment, that with this continued regulatory approach, available evidence does not currently reflect any increased risk for the broader community.

Response: As discussed in the responses to Comments 1 and 2, above, and as recognized by the commenter, the EPA is not proposing to regulate the subject non-asbestiform amphibole EMP. We agree with the commenter that PM controls currently used by the taconite iron ore processing facilities to address certain HAP emissions also limit emissions of the amphibole non-asbestiform EMP at the Northside facility.

4. What is our final approach for these amendments?

For the reasons explained in the preamble to the proposed rule and after considering comments on the proposed rule, we are now finalizing the following amendments to the rule:

• Requiring that owners or operators of taconite iron ore processing plants submit electronic copies of required performance test reports and compliance reports.

• Reducing the minimum duration for test runs for performance tests conducted from a minimum of 2 hours for each test run to a minimum of 1 hour for each test run.

• Removing the requirements to conduct quarterly internal baghouse inspections whenever a baghouse is equipped with a properly installed, operated, and maintained BLDS.

• Removing pressure drop as a monitoring option for dynamic wet scrubbers.

• Determining that compounds referred to as non-asbestiform amphibole EMP are not a HAP as set forth in CAA section 112(b)(1) and, thus, are not subject to regulation under CAA section 112.

We are not finalizing our proposal to amend 40 CFR 63.9632(a) to require that lower detection limits apply to BLDS installed after the September 25, 2019, proposal date. The proposed increase in required sensitivity for new BLDS was similar to what the EPA required in several recent new source performance standards and NESHAP rulemakings. However, in those cases, the increase in required BLDS detection sensitivity was triggered by circumstances specific to the source categories being addressed at that time (e.g., reduction in allowable emission rates or unacceptable risks). In the case of the NESHAP for Taconite Iron Ore Processing, we neither proposed to find the risks unacceptable nor to tighten the associated MACT PM standards. The EPA believes that the PM loading to control devices installed on affected sources at taconite iron ore processing facilities is at a level where the BLDS sensitivity currently required under the NESHAP is sufficient to ensure compliance with the MACT standards and that these MACT standards protect health and the environment with an ample margin of safety. Therefore, the final rule does not include the tightened detection sensitivity requirement for new BLDS.

We are not amending 40 CFR 63.9583 to specify the compliance dates for the changes made to the rule as provided in the proposed rule. Instead, we have added the compliance date requirements to each section where changes to the rule have been made. We believe this approach more clearly communicates the dates by which compliance with the new requirements is required.

We are not amending the rule to include the changes requested by industry for which we solicited information at proposal because we did not receive sufficient additional information that supported making the requested changes at this time.

E. Compliance Dates of the Revisions to the NESHAP

1. What compliance dates did we propose?

We proposed compliance dates of 180 days after promulgation of the final rule for all of the NESHAP revisions.

2. What changed since proposal?

We modified the dates by which the owners or operators of taconite iron ore processing facilities must be in compliance with the final amendments. Specifically, we modified the compliance dates of some General Provisions to the date of promulgation of the final rule and we modified the compliance dates for monitoring of fan amperage of dynamic wet scrubbers to 18 months after promulgation of the final rule. We also modified certain rule provisions to state that affected sources that construct or reconstruct after the date of the proposed rule must comply on the effective date of the final rule or date of startup, whichever is later.

3. What comments did we receive and what are our responses?

Commenters generally supported the September 25, 2019, proposed compliance dates. However, one commenter did object to the proposed requirement to comply with monitoring requirements for fan amperage on dynamic wet scrubbers within 180 days of promulgation of the final rule. For the reasons cited in section IV.E.4 of this preamble, below, we are finalizing a compliance date of 18 months after promulgation of the final rule for the requirement to comply with fan amperage monitoring requirements for a dynamic wet scrubber for which the owner or operator previously monitored pressure drop.

Summaries of these comments and the EPA responses are contained in the National Emissions Standards for Hazardous Air Pollutants: Taconite Iron Ore Processing Residual Risk and Technology Review Summary of Public Comments and Responses, which is available in the docket for this action.

4. What is the rationale for our final approach for these amendments?

Our experience with similar industries that have been required to convert reporting mechanisms, become familiar with required templates, learn the process of submitting compliance reports electronically through the EPA's CEDRI, test these new electronic submission capabilities, and reliably employ electronic reporting, shows that a time period of at least 180 days is generally necessary to successfully complete these changes. Our experience with similar industries further shows that this sort of regulated facility generally requires a time period of 180 days to read and understand the amended rule requirements; evaluate their operations to ensure that they can meet the standards during periods of startup and shutdown as defined in the rule and make any necessary adjustments; adjust parameter monitoring and recording systems to accommodate revisions; and update their operations to reflect the revised requirements. The EPA recognizes the confusion that multiple different compliance dates for individual requirements would create and the additional burden such an assortment of dates would impose. From our assessment of the timeframe needed for compliance with the entirety of the revised requirements, the EPA considers a period of 180 days to be the most expeditious compliance period practicable, and, thus, is finalizing the requirement that existing affected sources be in compliance with all of this regulation's revised requirements within 180 days of the regulation's effective date.

In 2009, the Court vacated two specific General Provision exemptions, namely, 40 CFR 63.6(f)(1) and 63.6(h)(1). Since those sections are already vacated, the removal of their “applicability” in our rules is strictly ministerial.

We changed the compliance date for monitoring requirements for fan amperage on dynamic wet scrubbers from 180 days after promulgation of the final rule to 18 months after promulgation of the final rule for taconite iron ore processing facilities that operate dynamic wet scrubbers and have been monitoring their operation using pressure drop and water flow rate. Under the final rule, these facilities must convert to monitoring fan amperage and water flow rate. In these cases, the owner or operator of the facility must modify their parametric monitoring system and conduct testing in order to comply with the monitoring requirements in the final rule. In our experience with similar industries, these activities can take up to 18 months. Therefore, the final rule allows these facilities up to 18 months to comply with the requirement to monitor fan amperage on dynamic wet scrubbers. For dynamic wet scrubbers that commence construction or reconstruction after the proposal date of September 25, 2019, owner or operators must comply with the requirements to monitor both the water flow rate and fan amperage upon startup, or by the date of promulgation of the final rule, whichever is later.

V. Summary of Cost, Environmental, and Economic Impacts and Additional Analyses Conducted

A. What are the affected facilities?

We anticipate that the eight taconite iron ore processing facilities currently operating in the United States will be affected by this final rule.

B. What are the air quality impacts?

We are not establishing new emission limits and are not requiring additional controls; therefore, no significant air quality impacts are expected as a result of the final amendments to the rule. However, we believe that the removal of exemptions during periods of SSM and the enhanced transparency associated with electronic reporting may result in unquantifiable benefits and air quality impacts.

C. What are the cost impacts?

As described in the proposed rule and covered in detail in the cost memorandum in the docket to this rulemaking (Docket ID No. EPA-HQ-OAR-2017-0664), the final amendments to reduce testing duration and the elimination of the requirement to conduct internal visual baghouse inspections will result in an estimated overall cost savings to industry of $190,000 per year.

D. What are the economic impacts?

Because the overall costs and savings to industry associated with the proposed revisions are relatively small, no significant economic impacts from the final amendments are anticipated.

E. What are the benefits?

While the amendments in this final rule do not require any new reductions in emissions of HAP, this action results in improved monitoring, compliance, and implementation of the rule. The final rule increases transparency and public availability of data via the requirement for electronic submittal of compliance test results and reports.

F. What analysis of environmental justice did we conduct?

To examine the potential for any environmental justice issues that might be associated with the source category, we performed a demographic analysis, which is an assessment of risks to individual demographic groups of the populations living within 5 kilometers (km) and within 50 km of the facilities. In the analysis, we evaluated the distribution of HAP-related cancer and noncancer risks from the Taconite Iron Ore Processing source category across different demographic groups within the populations living near facilities. That analysis indicates that actual emissions from the source category expose approximately 38,000 people to a cancer risk at or above 1-in-1 million and no one to a chronic noncancer HI greater than 1. The percent of minorities nationally (38 percent) is much higher than for the category population with cancer risk greater than or equal to 1-in-1 million (7 percent). The category population with cancer risk greater than or equal to 1-in-1 million has a greater percentage of Native American (2.8 percent) as compared to nationally (0.8 percent), but lower percentages for African American (1 percent) and Hispanic (1 percent) as compared to nationally (12 percent and 18 percent, respectively). The category population with cancer risk greater than or equal to 1-in-1 million has a lower percentage of the population below the poverty level (14 percent) as compared to nationally (19 percent). Therefore, the EPA believes that this action does not have disproportionately high and adverse human health or environmental effects on minority populations, low-income populations, and/or indigenous peoples. The documentation for this decision is contained in section IV.A.1 of the proposal preamble (84 FR 50676—50677) and in the Taconite Iron Ore Processing Demographic Analysis Report, which is available in this rulemaking docket (Docket Item No. EPA-HQ-OAR-2017-0664-0129).

G. What analysis of children's environmental health did we conduct?

The EPA does not believe the environmental health or safety risks addressed by this action present a disproportionate risk to children. This action's health and risk assessments are protective of the most vulnerable populations, including children, due to how we determine exposure and through the health benchmarks that we use. Specifically, the risk assessments we perform assume a lifetime of exposure, in which populations are conservatively presumed to be exposed to airborne concentrations at their residence continuously, 24 hours per day for a 70-year lifetime, including childhood. With regards to children's potentially greater susceptibility to noncancer toxicants, the assessments rely on the EPA's (or comparable) hazard identification and dose-response values that have been developed to be protective for all subgroups of the general population, including children. For more information on the risk assessment, see summary in section IV.A of this preamble and the final Taconite Risk Report, which is available in the docket to this rulemaking (Docket ID No. EPA-HQ-OAR-2017-0664).

VI. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is considered an Executive Order 13771 deregulatory action. Details on the estimated cost savings of this final rule can be found in EPA's analysis of the potential costs and benefits associated with this action.

C. Paperwork Reduction Act (PRA)

The information collection activities in this rule will be submitted for approval to OMB under the PRA. The Information Collection Request (ICR) document that the EPA prepared has been assigned EPA ICR number 2050.09. You can find a copy of the ICR in the docket for this rule, and it is briefly summarized here. The information collection requirements are not enforceable until OMB approves them.

We are finalizing amendments that require electronic reporting, remove the malfunction exemption, and impose other revisions that affect reporting and recordkeeping for taconite iron ore processing facilities. This information will be collected to assure compliance with 40 CFR part 63, subpart RRRRR.

Respondents/affected entities: Owners or operators of taconite iron ore processing facilities.

Respondent's obligation to respond: Mandatory (40 CFR part 63, subpart RRRRR).

Estimated number of respondents: Eight (total).

Frequency of response: Initial, semiannual, and annual.

Total estimated burden: The annual recordkeeping and reporting burden for facilities to comply with all of the requirements in the NESHAP is estimated to be 1,000 hours (per year). Burden is defined at 5 CFR 1320.3(b).

Total estimated cost: The annual recordkeeping and reporting burden for facilities to comply with all the requirements in the NESHAP is estimated to be $550,000 (per year). The only costs associated with the information collection activity is labor cost. There are no capital/startup or operation and maintenance costs for this ICR.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. This action will not impose any requirements on small entities. Based on the Small Business Administration size category for this source category, no small entities are subject to this action.

E. Unfunded Mandates Reform Act (UMRA)

This action does not contain an unfunded mandate of $100 million or more as described in UMRA, 2 U.S.C. 1531-1538, and does not significantly or uniquely affect small governments. While this action creates an enforceable duty on the private sector, the cost does not exceed $100 million or more.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. No tribal governments own facilities subject to this action. Thus, Executive Order 13175 does not apply to this action. However, since tribal officials expressed significant interest in this rulemaking, consistent with the EPA Policy on Consultation and Coordination with Indian Tribes, the EPA consulted with tribal officials during the development of this action. A summary of that consultation is provided in the docket to this rulemaking (Docket Item Nos. EPA-HQ-OAR-2017-0664-0142, EPA-HQ-OAR-2017-0664-0144, and EPA-HQ-OAR-2017-0664-0145). Tribal officials also provided written comments on the proposed rule. A summary of their comments along with the EPA's responses are in the preamble to this final rule or in the National Emissions Standards for Hazardous Air Pollutants: Taconite Iron Ore Processing Residual Risk and Technology Review Summary of Public Comments and Responses, available in Docket ID No. EPA-HQ-OAR-2017-0664.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are summarized in section IV.A of this preamble and in section IV of the September 25, 2019, proposal preamble and are further documented in the final Taconite Risk Report, which is available in the docket for this action (Docket ID No. EPA-HQ-OAR-2017-0664).

I. Executive Order 13211: Actions Concerning Regulations That Significantly Affect Energy Supply, Distribution, or Use

This action is not subject to Executive Order 13211, because it is not a significant regulatory action under Executive Order 12866.

J. National Technology Transfer and Advancement Act (NTTAA) and 1 CFR Part 51

This action involves technical standards. The EPA has decided to use ANSI/ASME PTC 19.10-1981 Part 10, “Flue and Exhaust Gas Analyses,” manual portion only, as an alternative to EPA Method 3B and incorporates the alternative method by reference. The ANSI/ASME PTC 19.10-1981 Part 10 method incorporates both manual and instrumental methodologies for the determination of oxygen content of the exhaust gas. The manual method segment of the oxygen determination is performed through the absorption of oxygen. The method is acceptable as an alternative to EPA Method 3B and is available from the American Society of Mechanical Engineers (ASME) at http://www.asme.org; by mail at Three Park Avenue, New York, NY 10016-5990; or by telephone at (800) 843-2763. EPA Method 3B is applicable for the determination of oxygen, carbon dioxide, and carbon monoxide concentrations in the exhaust gas from fossil-fuel combustion for use in excess air or emission rate correction factor calculations. The EPA is continuing to require the use of the EPA's “Fabric Filter Bag Leak Detection Guidance” to develop monitoring plans for BLDS. This publication (EPA-454/R-98-015) provides guidance on the selection, setup, adjustment, operation, and quality assurance of fabric filter BLDS and is available at https://www3.epa.gov/ttnemc01/cem/tribo.pdf.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994). The risks for this source category were found to be acceptable for all populations, including minority pollutions, low income populations, and/or indigenous people. In addition, this action increases the level of environmental protection for all affected populations through improved compliance. Specifically, the final rule removes SSM exemptions and clarifies testing, monitoring, recordkeeping, and reporting requirements. The results of the final risk analysis are contained in section IV.A of this preamble and in the final risk assessment report (available in the docket for this rulemaking). The results of the demographics analysis are contained in section V.F of this preamble and the Taconite Iron Ore Processing Demographic Analysis Report, which is available in this rulemaking docket (Docket Item No. EPA-HQ-OAR-2017-0664-0129).

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Incorporation by reference, Intergovernmental relations, Reporting and recordkeeping requirements.

Andrew Wheeler,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

2. Section 63.14 is amended by revising paragraphs (e)(1) and (n)(3) to read as follows:

§ 63.14 Incorporations by reference.

* * * * *

(e) * * *

(1) ANSI/ASME PTC 19.10-1981, Flue and Exhaust Gas Analyses [Part 10, Instruments and Apparatus], issued August 31, 1981, IBR approved for §§ 63.309(k), 63.457(k), 63.772(e) and (h), 63.865(b), 63.997(e), 63.1282(d) and (g), 63.1625(b), table 5 to subpart EEEE, 63.3166(a), 63.3360(e), 63.3545(a), 63.3555(a), 63.4166(a), 63.4362(a), 63.4766(a), 63.4965(a), 63.5160(d), table 4 to subpart UUUU, table3 to subpart YYYY, 63.7822(b), 63.7824(e), 63.7825(b), 63.9307(c), 63.9323(a), 63.9621(b) and (c), 63.11148(e), 63.11155(e), 63.11162(f), 63.11163(g), 63.11410(j), 63.11551(a), 63.11646(a), and 63.11945, table 5 to subpart DDDDD, table 4 to subpart JJJJJ, table 4 to subpart KKKKK, tables 4 and 5 of subpart UUUUU, table 1 to subpart ZZZZZ, and table 4 to subpart JJJJJJ.

* * * * *

(n) * * *

(3) EPA-454/R-98-015, Office of Air Quality Planning and Standards (OAQPS), Fabric Filter Bag Leak Detection Guidance, September 1997, https://nepis.epa.gov/Exe/ZyPDF.cgi?Dockey=2000D5T6.PDF, IBR approved for §§ 63.548(e), 63.864(e), 63.7525(j), 63.8450(e), 63.8600(e), 63.9632(a), and 63.11224(f).

* * * * *

3. Section 63.9590 is amended by revising paragraph (b)(2) to read as follows:

§ 63.9590 What emission limitations must I meet?

* * * * *

(b) * * *

(2) On or before January 28, 2022, for affected sources that commenced construction or reconstruction on or before September 25, 2019, for each dynamic wet scrubber applied to meet any particulate matter emission limit in Table 1 to this subpart, you must maintain the daily average scrubber water flow rate and either the daily average fan amperage (a surrogate for fan speed as revolutions per minute) or the daily average pressure drop at or above the minimum levels established during the initial performance test. After January 28, 2022, for affected sources that commenced construction or reconstruction on or before September 25, 2019, and after July 28, 2020, or upon start-up, which ever date is later, for affected sources that commenced construction or reconstruction after September 25, 2019, for each dynamic wet scrubber applied to meet any particulate matter emission limit in Table 1 to this subpart, you must maintain the daily average scrubber water flow rate and the daily average fan amperage (a surrogate for fan speed as revolutions per minute) at or above the minimum levels established during the initial performance test.

* * * * *

4. Section 63.9600 is amended by revising paragraphs (a) and (b)(2) introductory text to read as follows:

§ 63.9600 What are my operation and maintenance requirements?

(a) On or before January 25, 2021, for affected sources that commenced construction or reconstruction on or before September 25, 2019, you must always operate and maintain your affected source, including air pollution control and monitoring equipment, according to the provisions in § 63.6(e)(1)(i). After January 25, 2021, for affected sources that commenced construction or reconstruction on or before September 25, 2019, and after July 28, 2020, or upon start-up, which ever date is later, for affected sources that commenced construction or reconstruction after September 25, 2019, at all times, you must always operate and maintain any affected source, including associated air pollution control equipment and monitoring equipment, in a manner consistent with safety and good air pollution control practices for minimizing emissions. The general duty to minimize emissions does not require the owner or operator to make any further efforts to reduce emissions if levels required by the applicable standard have been achieved. Determination of whether such operation and maintenance procedures are being used will be based on information available to the Administrator which may include, but is not limited to, monitoring results, review of operation and maintenance procedures, review of operation and maintenance records, and inspection of the source.

(b) * * *

(2) Corrective action procedures for bag leak detection systems. On or before January 25, 2021, for affected sources that commenced construction or reconstruction on or before September 25, 2019, in the event a bag leak detection system alarm is triggered, you must initiate corrective action to determine the cause of the alarm within 1 hour of the alarm, initiate corrective action to correct the cause of the problem within 24 hours of the alarm, and complete the corrective action as soon as practicable. Corrective actions may include, but are not limited to, the actions listed in paragraphs (b)(2)(i) through (vi) of this section. After January 25, 2021, for affected sources that commenced construction or reconstruction on or before September 25, 2019, and after July 28, 2020, or upon start-up, which ever date is later, for affected sources that commenced construction or reconstruction after September 25, 2019, in the event a bag leak detection system alarm is triggered, you must initiate corrective action to determine the cause of the alarm within 1 hour of the alarm, initiate corrective action to correct the cause of the problem within 24 hours of the alarm, and complete the corrective action as soon as practicable. If the alarm sounds more than 5 percent of the operating time during a 6-month period as determined according to § 63.9634(d)(3), it is considered an operating parameter deviation. Corrective actions may include, but are not limited to, the actions listed in paragraphs (b)(2)(i) through (vi) of this section.

* * * * *

5. Section 63.9610 is amended by revising paragraph (a) introductory text and paragraph (c) to read as follows:

§ 63.9610 What are my general requirements for complying with this subpart?

(a) On or before January 25, 2021, for affected sources that commenced construction or reconstruction on or before September 25, 2019, you must be in compliance with the requirements in paragraphs (a)(1) through (6) of this section at all times, except during periods of startup, shutdown, and malfunction. After January 25, 2021, for affected sources that commenced construction or reconstruction on or before September 25, 2019, and after July 28, 2020, for affected sources that commenced construction or reconstruction after September 25, 2019, you must be in compliance with the emission limitations, standards, and operation and maintenance requirements in this subpart at all times.

* * * * *

(c) On or before January 25, 2021, for affected sources that commenced construction or reconstruction on or before September 25, 2019, you must develop a written startup, shutdown, and malfunction plan according to the provisions in § 63.6(e)(3). For affected sources, a startup, shutdown, and malfunction plan is not required after January 25, 2021. No startup, shutdown, and malfunction plan is required for affected sources that commenced construction or reconstruction after September 25, 2019.

6. Section 63.9620 is amended by revising paragraph (f) introductory text to read as follows:

§ 63.9620 On which units and by what date must I conduct performance tests or other initial compliance demonstrations?

* * * * *

(f) If you elect to test representative emission units as provided in paragraph (e) of this section, the units that are grouped together as similar units must meet the criteria in paragraphs (f)(1) and (2) of this section.

* * * * *

7. Section 63.9621 is amended by revising paragraphs (a), (b)(1) and (2), and (c)(1) and (2) to read as follows:

§ 63.9621 What test methods and other procedures must I use to demonstrate initial compliance with the emission limits for particulate matter?

(a) On or before January 25, 2021, for affected sources that commenced construction or reconstruction on or before September 25, 2019, you must conduct each performance test that applies to your affected source according to the requirements in § 63.7(e)(1) and paragraphs (b) and (c) of this section. After January 25, 2021, for affected sources that commenced construction or reconstruction on or before September 25, 2019, and after July 28, 2020, or upon start-up, which ever date is later, for affected sources that commenced construction or reconstruction after September 25, 2019, you must conduct each performance test that applies to your affected source under normal operating conditions of the affected source. The owner or operator may not conduct performance tests during periods of malfunction. The owner or operator must record the process information that is necessary to document operating conditions during the test and include in such record an explanation to support that such conditions represent normal operation. Upon request, the owner or operator shall make available to the Administrator such records as may be necessary to determine the conditions of performance tests. You must also conduct each performance test that applies to your affected source according to the requirements in paragraphs (b) and (c) of this section.

(b) * * *

(1) Except as provided in § 63.9620(e), determine the concentration of particulate matter in the stack gas for each emission unit according to the test methods listed in paragraphs (b)(1)(i) through (v) of this section.

(i) EPA Method 1 or 1A in appendix A-1 to part 60 of this chapter to select sampling port locations and the number of traverse points. Sampling ports must be located at the outlet of the control device and prior to any releases to the atmosphere.

(ii) EPA Method 2, 2A, 2C, 2D, or 2F in appendix A-1 to part 60 of this chapter or EPA Method 2G in appendix A-2 to part 60 of this chapter, as applicable, to determine the volumetric flow rate of the stack gas.

(iii) EPA Method 3A or 3B in appendix A-2 to part 60 of this chapter to determine the dry molecular weight of the stack gas. The voluntary consensus standard ANSI/ASME PTC 19.10-1981 (incorporated by reference-see § 63.14) may be used as an alternative to the manual procedures (but not instrumental procedures) in EPA Method 3B.

(iv) EPA Method 4 in appendix A-3 to part 60 of this chapter to determine the moisture content of the stack gas.

(v) EPA Method 5 or 5D in appendix A-3 to part 60 of this chapter or EPA Method 17 in appendix A-6 to part 60 of this chapter to determine the concentration of particulate matter.

(2) Each EPA Method 5, 5D, or 17 performance test must consist of three separate runs. Each run must be conducted for a minimum of 1 hour. If any measurement result is reported as below the method detection limit, use the method detection limit for that value when calculating the average particulate matter concentration. The average particulate matter concentration from the three runs will be used to determine compliance, as shown in Equation 1 of this section.

Where:

Ci = Average particulate matter concentration for emission unit, grains per dry standard cubic foot, (gr/dscf);

C1 = Particulate matter concentration for run 1 corresponding to emission unit, gr/dscf;

C2 = Particulate matter concentration for run 2 corresponding to emission unit, gr/dscf; and

C3 = Particulate matter concentration for run 3 corresponding to emission unit, gr/dscf.

* * * * *

(c) * * *

(1) Determine the concentration of particulate matter for each stack according to the test methods listed in paragraphs (c)(1)(i) through (v) of this section.

(i) EPA Method 1 or 1A in appendix A-1 to part 60 of this chapter to select sampling port locations and the number of traverse points. Sampling ports must be located at the outlet of the control device and prior to any releases to the atmosphere.

(ii) EPA Method 2, 2A, 2C, 2D, or 2F in appendix A-1 to part 60 of this chapter or EPA Method 2G in appendix A-2 to part 60 of this chapter, as applicable, to determine the volumetric flow rate of the stack gas.

(iii) EPA Method 3A or 3B in appendix A-2 to part 60 of this chapter to determine the dry molecular weight of the stack gas. The voluntary consensus standard ANSI/ASME PTC 19.10-1981 (incorporated by reference-see § 63.14) may be used as an alternative to the manual procedures (but not instrumental procedures) in EPA Method 3B.

(iv) EPA Method 4 in appendix A-3 to part 60 of this chapter to determine the moisture content of the stack gas.

(v) EPA Method 5 or 5D in appendix A-3 to part 60 of this chapter to determine the concentration of particulate matter.

(2) Each EPA Method 5 or 5D performance test must consist of three separate runs. Each run must be conducted for a minimum of 1 hour. If any measurement result is reported as below the method detection limit, use the method detection limit for that value when calculating the average particulate matter concentration. The average particulate matter concentration from the three runs will be used to determine compliance, as shown in Equation 1 of this section.

* * * * *

8. Section 63.9622 is amended by revising paragraphs (b) and (d)(2) to read as follows:

§ 63.9622 What test methods and other procedures must I use to establish and demonstrate initial compliance with the operating limits?

* * * * *

(b) On or before January 28, 2022, for affected sources that commenced construction or reconstruction on or before September 25, 2019, for dynamic wet scrubbers subject to performance testing in § 63.9620 and operating limits for scrubber water flow rate and either fan amperage or pressure drop in § 63.9590(b)(2), you must establish site-specific operating limits according to the procedures in paragraphs (b)(1) and (2) of this section. After January 28, 2022, for affected sources that commenced construction or reconstruction on or before September 25, 2019, and after July 28, 2020, or upon start-up, which ever date is later, for affected sources that commenced construction or reconstruction after September 25, 2019, for dynamic wet scrubbers subject to performance testing in § 63.9620 and operating limits for scrubber water flow rate and fan amperage in § 63.9590(b)(2), you must establish site-specific operating limits according to the procedures in paragraphs (b)(1) and (2) of this section.

(1) On or before January 28, 2022, for affected sources that commenced construction or reconstruction on or before September 25, 2019, using the CPMS required in § 63.9631(b), measure and record the scrubber water flow rate and either the fan amperage or pressure drop every 15 minutes during each run of the particulate matter performance test. After January 28, 2022, for affected sources that commenced construction or reconstruction on or before September 25, 2019, and after July 28, 2020, or upon start-up, which ever date is later, for affected sources that commenced construction or reconstruction after September 25, 2019, using the CPMS required in § 63.9631(b), measure and record the scrubber water flow rate and the fan amperage every 15 minutes during each run of the particulate matter performance test.

(2) On or before January 28, 2022, for affected sources that commenced construction or reconstruction on or before September 25, 2019, calculate and record the average scrubber water flow rate and either the average fan amperage or the average pressure drop for each individual test run. Your operating limits are established as the lowest average scrubber water flow rate and either the lowest average fan amperage or pressure drop value corresponding to any of the three test runs. After January 28, 2022, for affected sources that commenced construction or reconstruction on or before September 25, 2019, and after July 28, 2020, or upon start-up, which ever date is later, for affected sources that commenced construction or reconstruction after September 25, 2019, calculate and record the average scrubber water flow rate and the average fan amperage for each individual test run. Your operating limits are established as the lowest average scrubber water flow rate and the lowest average fan amperage value corresponding to any of the three test runs.

* * * * *

(d) * * *

(2) For each individual test run, calculate and record the average value for each operating parameter in paragraphs (d)(1)(i) through (iii) of this section for each wet electrostatic precipitator field. Your operating limits are established as the lowest average value for each operating parameter of secondary voltage and water flow rate corresponding to any of the three test runs, and the highest average value for each stack outlet temperature corresponding to any of the three test runs.

* * * * *

9. Section 63.9623 is amended by revising paragraph (b)(2) to read as follows:

§ 63.9623 How do I demonstrate initial compliance with the emission limitations that apply to me?

* * * * *

(b) * * *

(2) On or before January 28, 2022, for affected sources that commenced construction or reconstruction on or before September 25, 2019, for each dynamic wet scrubber subject to performance testing in § 63.9620 and operating limits for scrubber water flow rate and either fan amperage or pressure drop in § 63.9590(b)(2), you have established appropriate site-specific operating limits and have a record of the scrubber water flow rate and either the fan amperage or pressure drop value, measured during the performance test in accordance with § 63.9622(b). After January 28, 2022, for affected sources that commenced construction or reconstruction on or before September 25, 2019, and after July 28, 2020, or upon start-up, which ever date is later, for affected sources that commenced construction or reconstruction after September 25, 2019, for each dynamic wet scrubber subject to performance testing in § 63.9620 and operating limits for scrubber water flow rate and fan amperage in § 63.9590(b)(2), you have established appropriate site-specific operating limits and have a record of the scrubber water flow rate and the fan amperage value, measured during the performance test in accordance with § 63.9622(b).

* * * * *

10. Section 63.9625 is amended by revising the introductory text to read as follows:

§ 63.9625 How do I demonstrate initial compliance with the operation and maintenance requirements that apply to me?

For each air pollution control device subject to operating limits in § 63.9590(b), you have demonstrated initial compliance with the operation and maintenance requirements if you meet all of the requirements in paragraphs (a) through (d) of this section.

* * * * *

11. Section 63.9631 is amended by revising paragraphs (a) introductory text and (c) to read as follows:

§ 63.9631 What are my monitoring requirements?

(a) On or before January 25, 2021, for affected sources that commenced construction or reconstruction on or before September 25, 2019, for each baghouse applied to meet any particulate matter emission limit in Table 1 to this subpart, you must install, operate, and maintain a bag leak detection system to monitor the relative change in particulate matter loadings according to the requirements in § 63.9632(a), and conduct inspections at their specified frequencies according to the requirements in paragraphs (a)(1) through (8) of this section. After January 25, 2021, for affected sources that commenced construction or reconstruction on or before September 25, 2019, and after July 28, 2020, or upon start-up, which ever date is later, for affected sources that commenced construction or reconstruction after September 25, 2019, for each baghouse applied to meet any particulate matter emission limit in Table 1 to this subpart, you must install, operate, and maintain a bag leak detection system to monitor the relative change in particulate matter loadings according to the requirements in § 63.9632(a), and conduct inspections at their specified frequencies according to the requirements in paragraphs (a)(1) through (6) and (8) of this section. For each baghouse applied to meet any particulate matter emission limit in Table 1 to this subpart that is not required by § 63.9632(a) to be equipped with a bag leak detection system, you must conduct inspections at their specified frequencies according to the requirements in paragraphs (a)(1) through (8) of this section.

* * * * *

(c) On or before January 28, 2022, for affected sources that commenced construction or reconstruction on or before September 25, 2019, for each dynamic wet scrubber subject to the scrubber water flow rate and either the fan amperage or pressure drop operating limits in § 63.9590(b)(2), you must install, operate, and maintain a CPMS according to the requirements in § 63.9632(b) through (e) and monitor the daily average scrubber water flow rate and either the daily average fan amperage or the daily average pressure drop according to the requirements in § 63.9633. After January 28, 2022, for affected sources that commenced construction or reconstruction on or before September 25, 2019, and after July 28, 2020, or upon start-up, which ever date is later, for affected sources that commenced construction or reconstruction after September 25, 2019, for each dynamic wet scrubber subject to the scrubber water flow rate and the fan amperage operating limits in § 63.9590(b)(2), you must install, operate, and maintain a CPMS according to the requirements in § 63.9632(b) through (e) and monitor the daily average scrubber water flow rate and the daily average fan amperage according to the requirements in § 63.9633.

* * * * *

12. Section 63.9632 is amended by:

a. Revising paragraph (a) introductory text.

b. Redesignating paragraphs (a)(3) through (8) as paragraphs (a)(4) through (9).

c. Adding new paragraph (a)(3).

d. Revising newly redesignated paragraphs (a)(4), (a)(5) introductory text, (a)(7) introductory text, and (a)(7)(i).

e. Revising paragraphs (b)(3) through (6) and (f)(2) and (4).

The revisions and addition read as follows:

§ 63.9632 What are the installation, operation, and maintenance requirements for my monitoring equipment?

(a) On or before January 25, 2021, for affected sources that commenced construction or reconstruction on or before September 25, 2019, for each negative pressure baghouse or positive pressure baghouse equipped with a stack, applied to meet any particulate emission limit in Table 1 to this subpart, you must install, operate, and maintain a bag leak detection system for each exhaust stack according to the requirements in paragraphs (a)(1) and (2) and (a)(4) through (9) of this section. After January 25, 2021, for affected sources that commenced construction or reconstruction on or before September 25, 2019, and after July 28, 2020, or upon start-up, which ever date is later, for affected sources that commenced construction or reconstruction after September 25, 2019, for each negative pressure baghouse or positive pressure baghouse equipped with a stack, applied to meet any particulate emission limit in Table 1 to this subpart, you must install, operate, and maintain a bag leak detection system for each exhaust stack according to the requirements in paragraphs (a)(1) through (9) of this section.

* * * * *

(3) The bag leak detection system must be equipped with a device to continuously record the output signal from the sensor.

(4) The system must be equipped with an alarm that will sound when an increase in relative particulate loadings is detected over the alarm level set point established according to paragraph (a)(5) of this section. The alarm must be located such that it can be heard by the appropriate plant personnel.

(5) For each bag leak detection system, you must develop and submit to the Administrator for approval, a site-specific monitoring plan that addresses the items identified in paragraphs (a)(5)(i) through (v) of this section. The monitoring plan shall be consistent with the manufacturer's specifications and recommendations contained in the U.S. Environmental Protection Agency (U.S. EPA) guidance document, “Fabric Filter Bag Leak Detection Guidance” (EPA-454/R-98-015) (incorporated by reference—see § 63.14). You must operate and maintain the bag leak detection system according to the site-specific monitoring plan at all times. The plan shall describe all of the items in paragraphs (a)(5)(i) through (v) of this section.

* * * * *

(7) Following initial adjustment, do not adjust sensitivity or range, averaging period, alarm set point, or alarm delay time, without approval from the Administrator except as provided for in paragraph (a)(7)(i) of this section. In no event may the sensitivity be increased more than 100 percent or decreased by more than 50 percent over a 365-day period unless such adjustment follows a complete baghouse inspection that demonstrates the baghouse is in good operating condition.

(i) Once per quarter, you may adjust the sensitivity or range of the bag leak detection system to account for seasonal effects, including temperature and humidity, according to the procedures identified in the site-specific monitoring plan required under paragraph (a)(5) of this section.

* * * * *

(b) * * *

(3) On or before January 25, 2021, for affected sources that commenced construction or reconstruction on or before September 25, 2019, performance evaluation procedures and acceptance criteria (e.g., calibrations). After January 25, 2021, for affected sources that commenced construction or reconstruction on or before September 25, 2019, and after July 28, 2020, or upon start-up, which ever date is later, for affected sources that commenced construction or reconstruction after September 25, 2019, performance evaluation procedures, a schedule for performing such procedures, and acceptance criteria (e.g., calibrations), as well as corrective action to be taken if a performance evaluation does not meet the acceptance criteria. If a CPMS calibration fails, the CPMS is considered to be inoperative until you take corrective action and the system passes calibration.

(4) On or before January 25, 2021, for affected sources that commenced construction or reconstruction on or before September 25, 2019, ongoing operation and maintenance procedures in accordance with the general requirements of § 63.8(c)(1), (3), (4)(ii), (7), and (8). After January 25, 2021, for affected sources that commenced construction or reconstruction on or before September 25, 2019, and after July 28, 2020, or upon start-up, which ever date is later, for affected sources that commenced construction or reconstruction after September 25, 2019, ongoing operation and maintenance procedures and a schedule for preventative maintenance procedures, in a manner consistent with good air pollution control practices and in accordance with the general requirements of § 63.8(c)(1)(ii), (c)(3), (c)(4)(ii), and (c)(7) and (8).

(5) On or before January 25, 2021, for affected sources that commenced construction or reconstruction on or before September 25, 2019, ongoing data quality assurance procedures in accordance with the general requirements of § 63.8(d). After January 25, 2021, for affected sources that commenced construction or reconstruction on or before September 25, 2019, and after July 28, 2020, or upon start-up, which ever date is later, for affected sources that commenced construction or reconstruction after September 25, 2019, ongoing data quality assurance procedures in accordance with the general requirements of § 63.8(d)(1) and (2). The owner or operator shall keep these written procedures on record for the life of the affected source or until the affected source is no longer subject to the provisions of this part, to be made available for inspection, upon request, by the Administrator. If the performance evaluation plan is revised, the owner or operator shall keep previous (i.e., superseded) versions of the performance evaluation plan on record to be made available for inspection, upon request, by the Administrator, for a period of 5 years after each revision to the plan.

(6) On or before January 25, 2021, for affected sources that commenced construction or reconstruction on or before September 25, 2019, ongoing recordkeeping and reporting procedures in accordance with the general requirements of § 63.10(c), (e)(1), and (e)(2)(i). After January 25, 2021, for affected sources that commenced construction or reconstruction on or before September 25, 2019, and after July 28, 2020, or upon start-up, which ever date is later, for affected sources that commenced construction or reconstruction after September 25, 2019, ongoing recordkeeping and reporting procedures in accordance with the general requirements of § 63.10(c)(1) through (14), (e)(1), and (e)(2)(i).

* * * * *

(f) * * *

(2) On or before January 25, 2021, for affected sources that commenced construction or reconstruction on or before September 25, 2019, you must develop and implement a quality control program for operating and maintaining each continuous opacity monitoring system (COMS) according to § 63.8. At a minimum, the quality control program must include a daily calibration drift assessment, quarterly performance audit, and annual zero alignment of each COMS. After January 25, 2021, for affected sources that commenced construction or reconstruction on or before September 25, 2019, and after July 28, 2020, or upon start-up, which ever date is later, for affected sources that commenced construction or reconstruction after September 25, 2019, you must develop and implement a quality control program for operating and maintaining each COMS according to § 63.8(a) and (b), (c)(1)(ii), (c)(2) through (8), (d)(1) and (2), and (e) through (g) and Procedure 3 in appendix F to 40 CFR part 60. At a minimum, the quality control program must include a daily calibration drift assessment, quarterly performance audit, and annual zero alignment of each COMS.

* * * * *

(4) On or before January 25, 2021, for affected sources that commenced construction or reconstruction on or before September 25, 2019, you must determine and record the 6-minute average opacity for periods during which the COMS is not out of control. After January 25, 2021, for affected sources that commenced construction or reconstruction on or before September 25, 2019, and after July 28, 2020, or upon start-up, which ever date is later, for affected sources that commenced construction or reconstruction after September 25, 2019, you must determine and record the 6-minute average opacity for periods during which the COMS is not out of control. All COMS must complete a minimum of one cycle of sampling and analyzing for each successive 10-second period and one cycle of data recording for each successive 6-minute period.

13. Section 63.9633 is amended by revising paragraphs (a) and (b) to read as follows:

§ 63.9633 How do I monitor and collect data to demonstrate continuous compliance?

(a) Except for monitoring malfunctions, out of control periods, associated repairs, and required quality assurance or control activities (including as applicable, calibration checks and required zero and span adjustments), you must monitor continuously (or collect data at all required intervals) at all times an affected source is operating.

(b) You may not use data recorded during monitoring malfunctions, out of control periods, associated repairs, and required quality assurance or control activities in data averages and calculations used to report emission or operating levels, or to fulfill a minimum data availability requirement. You must use all the data collected during all other periods in assessing compliance.

14. Section 63.9634 is amended by:

a. Revising paragraphs (b)(3), (d) introductory text, and (d)(2).

b. Adding paragraph (d)(3).

c. Revising paragraphs (f) introductory text, (f)(1), (3), and (4), (h)(1), and (j)(1) and (2).

The revisions and addition read as follows:

§ 63.9634 How do I demonstrate continuous compliance with the emission limitations that apply to me?

* * * * *

(b) * * *

(3) For ore crushing and handling and finished pellet handling emission units not selected for initial performance testing and defined within a group of similar emission units in accordance with § 63.9620(e), the site-specific operating limits established for the emission unit selected as representative of a group of similar emission units will be used as the operating limit for each emission unit within the group. The operating limit established for the representative unit must be met by each emission unit within the group.

* * * * *

(d) On or before January 25, 2021, for affected sources that commenced construction or reconstruction on or before September 25, 2019, for each baghouse applied to meet any particulate emission limit in Table 1 to this subpart, you must demonstrate continuous compliance by completing the requirements in paragraphs (d)(1) and (2) of this section. After January 25, 2021, for affected sources that commenced construction or reconstruction on or before September 25, 2019, and after July 28, 2020, or upon start-up, which ever date is later, for affected sources that commenced construction or reconstruction after September 25, 2019, for each baghouse applied to meet any particulate emission limit in Table 1 to this subpart, you must demonstrate continuous compliance by completing the requirements in paragraphs (d)(1) through (3) of this section.

* * * * *

(2) Inspecting and maintaining each baghouse according to the requirements in § 63.9631(a) and recording all information needed to document conformance with the requirements in § 63.9631(a). If you increase or decrease the sensitivity of the bag leak detection system beyond the limits specified in your site-specific monitoring plan, you must include a copy of the required written certification by a responsible official in the next semiannual compliance report.

(3) Each bag leak detection system must be operated and maintained such that the alarm does not sound more than 5 percent of the operating time during a 6-month period. Calculate the alarm time as specified in paragraphs (d)(3)(i) through (iii) of this section.

(i) If inspection of the fabric filter demonstrates that no corrective action is required, no alarm time is counted.

(ii) If corrective action is required, each alarm time (i.e., time that the alarm sounds) is counted as a minimum of 1 hour.

(iii) If it takes longer than 1 hour to initiate corrective action, each alarm time is counted as the actual amount of time taken to initiate corrective action.

* * * * *

(f) On or before January 28, 2022, for affected sources that commenced construction or reconstruction on or before September 25, 2019, for each dynamic wet scrubber subject to the operating limits for scrubber water flow rate and either the fan amperage or pressure drop in § 63.9590(b)(2), you must demonstrate continuous compliance by completing the requirements of paragraphs (f)(1) through (4) of this section. After January 28, 2022, for affected sources that commenced construction or reconstruction on or before September 25, 2019, and after July 28, 2020, or upon start-up, which ever date is later, for affected sources that commenced construction or reconstruction after September 25, 2019, for each dynamic wet scrubber subject to the operating limits for scrubber water flow rate and the fan amperage in § 63.9590(b)(2), you must demonstrate continuous compliance by completing the requirements of paragraphs (f)(1) through (4) of this section.

(1) On or before January 28, 2022, for affected sources that commenced construction or reconstruction on or before September 25, 2019, maintaining the daily average scrubber water flow rate and either the daily average fan amperage or the daily average pressure drop at or above the minimum levels established during the initial or subsequent performance test. After January 28, 2022, for affected sources that commenced construction or reconstruction on or before September 25, 2019, and after July 28, 2020, or upon start-up, which ever date is later, for affected sources that commenced construction or reconstruction after September 25, 2019, maintaining the daily average scrubber water flow rate and the daily average fan amperage at or above the minimum levels established during the initial or subsequent performance test.

* * * * *

(3) On or before January 28, 2022, for affected sources that commenced construction or reconstruction on or before September 25, 2019, collecting and reducing monitoring data for scrubber water flow rate and either fan amperage or pressure drop according to § 63.9632(c) and recording all information needed to document conformance with the requirements in § 63.9632(c). After January 28, 2022, for affected sources that commenced construction or reconstruction on or before September 25, 2019, and after July 28, 2020, or upon start-up, which ever date is later, for affected sources that commenced construction or reconstruction after September 25, 2019, collecting and reducing monitoring data for scrubber water flow rate and fan amperage according to § 63.9632(c) and recording all information needed to document conformance with the requirements in § 63.9632(c).

(4) On or before January 28, 2022, for affected sources that commenced construction or reconstruction on or before September 25, 2019, if the daily average scrubber water flow rate, daily average fan amperage, or daily average pressure drop is below the operating limits established for a corresponding emission unit or group of similar emission units, you must then follow the corrective action procedures in paragraph (j) of this section. After January 28, 2022, for affected sources that commenced construction or reconstruction on or before September 25, 2019, and after July 28, 2020, or upon start-up, which ever date is later, for affected sources that commenced construction or reconstruction after September 25, 2019, if the daily average scrubber water flow rate or daily average fan amperage, is below the operating limits established for a corresponding emission unit or group of similar emission units, you must then follow the corrective action procedures in paragraph (j) of this section.

* * * * *

(h) * * *

(1) Maintaining the daily average secondary voltage and daily average scrubber water flow rate for each field at or above the minimum levels established during the initial or subsequent performance test. Maintaining the daily average stack outlet temperature at or below the maximum levels established during the initial or subsequent performance test.

* * * * *

(j) * * *

(1) You must initiate and complete initial corrective action within 10 calendar days and demonstrate that the initial corrective action was successful. During any period of corrective action, you must continue to monitor, and record all required operating parameters for equipment that remains in operation. After the initial corrective action, if the daily average operating parameter value for the emission unit or group of similar emission units meets the operating limit established for the corresponding unit or group, then the corrective action was successful and the emission unit or group of similar emission units is in compliance with the established operating limits.

(2) If the initial corrective action required in paragraph (j)(1) of this section was not successful, then you must complete additional corrective action within 10 calendar days and demonstrate that the subsequent corrective action was successful. During any period of corrective action, you must continue to monitor, and record all required operating parameters for equipment that remains in operation. If the daily average operating parameter value for the emission unit or group of similar emission units meets the operating limit established for the corresponding unit or group, then the corrective action was successful, and the emission unit or group of similar emission units is in compliance with the established operating limits.

* * * * *

15. Section 63.9637 is revised to read as follows:

§ 63.9637 What other requirements must I meet to demonstrate continuous compliance?

(a) Deviations. You must report each instance in which you did not meet each emission limitation in Table 1 to this subpart that applies to you. You also must report each instance in which you did not meet the work practice standards in § 63.9591 and each instance in which you did not meet each operation and maintenance requirement in § 63.9600 that applies to you. These instances are deviations from the emission limitations, work practice standards, and operation and maintenance requirements in this subpart. These deviations must be reported in accordance with the requirements in § 63.9641.

(b) Startups, shutdowns, and malfunctions. For existing sources and for new or reconstructed sources which commenced construction or reconstruction on or before September 25, 2019, on or before January 25, 2021, for affected sources that commenced construction or reconstruction on or before September 25, 2019, consistent with §§ 63.6(e) and 63.7(e)(1), deviations that occur during a period of startup, shutdown, or malfunction are not violations if you demonstrate to the Administrator's satisfaction that you were operating in accordance with § 63.6(e)(1). The Administrator will determine whether deviations that occur during a period of startup, shutdown, or malfunction are violations, according to the provisions in § 63.6(e). After January 25, 2021, for affected sources that commenced construction or reconstruction on or before September 25, 2019, and after July 28, 2020, or upon start-up, which ever date is later, for affected sources that commenced construction or reconstruction after September 25, 2019, the exemptions for periods of startup, shutdown, and malfunction in § 63.6(e) no longer apply.

16. Section 63.9640 is amended by revising paragraph (e)(2) to read as follows:

§ 63.9640 What notifications must I submit and when?

* * * * *

(e) * * *

(2) On or before January 25, 2021, for affected sources that commenced construction or reconstruction on or before September 25, 2019, for each initial compliance demonstration that does include a performance test, you must submit the notification of compliance status, including the performance test results, before the close of business on the 60th calendar day following the completion of the performance test according to § 63.10(d)(2). After January 25, 2021, for affected sources that commenced construction or reconstruction on or before September 25, 2019, and after July 28, 2020, or upon start-up, which ever date is later, for affected sources that commenced construction or reconstruction after September 25, 2019, for each initial compliance demonstration that does include a performance test, you must submit the notification of compliance status, including the performance test results, before the close of business on the 60th calendar day following the completion of the performance test according to § 63.10(d)(2). If the performance test results have been submitted electronically in accordance with § 63.9641(f), the process unit(s) tested, the pollutant(s) tested, and the date that such performance test was conducted may be submitted in the notification of compliance status report in lieu of the performance test results. The performance test results must be submitted to the Compliance and Emissions Data Reporting Interface (CEDRI) by the date the notification of compliance status report is submitted.

17. Section 63.9641 is amended by:

a. Revising paragraphs (a)(2) and (4), (b) introductory text, and (b)(2) through (4) and (7), (b)(8) introductory text, (b)(8)(ii) through (vii) and (ix), and (c); and

b. Adding paragraphs (f), (g), and (h).

The revisions and additions read as follows:

§ 63.9641 What reports must I submit and when?

(a) * * *

(2) On or before January 25, 2021, for affected sources that commenced construction or reconstruction on or before September 25, 2019, the first compliance report must be postmarked or delivered no later than July 31 or January 31, whichever date comes first after your first compliance report is due. After January 25, 2021, for affected sources that commenced construction or reconstruction on or before September 25, 2019, and after July 28, 2020, or upon start-up, which ever date is later, for affected sources that commenced construction or reconstruction after September 25, 2019, the first compliance report must be electronically submitted, postmarked or delivered no later than July 31 or January 31, whichever date comes first after your first compliance report is due.

* * * * *

(4) On or before January 25, 2021, for affected sources that commenced construction or reconstruction on or before September 25, 2019, each subsequent compliance report must be postmarked or delivered no later than July 31 or January 31, whichever date comes first after the end of the semiannual reporting period. After January 25, 2021, for affected sources that commenced construction or reconstruction on or before September 25, 2019, and after July 28, 2020, or upon start-up, which ever date is later, for affected sources that commenced construction or reconstruction after September 25, 2019, each subsequent compliance report must be electronically submitted, postmarked or delivered no later than July 31 or January 31, whichever date comes first after the end of the semiannual reporting period.

* * * * *

(b) Compliance report contents. Each compliance report must include the information in paragraphs (b)(1) through (8) of this section, as applicable.

* * * * *

(2) On or before January 25, 2021, for affected sources that commenced construction or reconstruction on or before September 25, 2019, statement by a responsible official, with the official's name, title, and signature, certifying the truth, accuracy, and completeness of the content of the report. After January 25, 2021, for affected sources that commenced construction or reconstruction on or before September 25, 2019, and after July 28, 2020, or upon start-up, which ever date is later, for affected sources that commenced construction or reconstruction after September 25, 2019, statement by a responsible official, with the official's name, title, and signature, certifying the truth, accuracy, and completeness of the content of the report. If your report is submitted via CEDRI, the certifier's electronic signature during the submission process replaces the requirement in this paragraph (b)(2).

(3) On or before January 25, 2021, for affected sources that commenced construction or reconstruction on or before September 25, 2019, date of report and beginning and ending dates of the reporting period. After January 25, 2021, for affected sources that commenced construction or reconstruction on or before September 25, 2019, and after July 28, 2020, or upon start-up, which ever date is later, for affected sources that commenced construction or reconstruction after September 25, 2019, date of report and beginning and ending dates of the reporting period. You are no longer required to provide the date of report when the report is submitted via CEDRI.

(4) On or before January 25, 2021, for affected sources that commenced construction or reconstruction on or before September 25, 2019, if you had a startup, shutdown, or malfunction during the reporting period and you took actions consistent with your startup, shutdown, and malfunction plan, the compliance report must include the information in § 63.10(d)(5)(i). A startup, shutdown, and malfunction plan and the information in § 63.10(d)(5)(i) is not required after January 25, 2021, for affected sources that commenced construction or reconstruction on or before September 25, 2019, and is not required after July 28, 2020, for affected sources that commenced construction or reconstruction after September 25, 2019.

* * * * *

(7) On or before January 25, 2021, for affected sources that commenced construction or reconstruction on or before September 25, 2019, for each deviation from an emission limitation in Table 1 to this subpart that occurs at an affected source where you are not using a continuous monitoring system (including a CPMS or COMS) to comply with an emission limitation in this subpart, the compliance report must contain the information in paragraphs (b)(1) through (4) of this section and the information in paragraphs (b)(7)(i) and (ii) of this section. This includes periods of startup, shutdown, and malfunction. After January 25, 2021, for affected sources that commenced construction or reconstruction on or before September 25, 2019, and after July 28, 2020, or upon start-up, which ever date is later, for affected sources that commenced construction or reconstruction after September 25, 2019, for each deviation from an emission limitation in Table 1 to this subpart that occurs at an affected source where you are not using a continuous monitoring system (including a CPMS or COMS) to comply with an emission limitation in this subpart, the compliance report must contain the information in paragraphs (b)(7)(i) and (ii) of this section.

(i) The total operating time in hours of each affected source during the reporting period.

(ii) On or before January 25, 2021, for affected sources that commenced construction or reconstruction on or before September 25, 2019, information on the number, duration, and cause of deviation (including unknown cause) as applicable, and the corrective action taken. After January 25, 2021, for affected sources that commenced construction or reconstruction on or before September 25, 2019, and after July 28, 2020, or upon start-up, which ever date is later, for affected sources that commenced construction or reconstruction after September 25, 2019, information on the affected sources or equipment, the emission limit deviated from, the start date, start time, duration in hours, and cause of each deviation (including unknown cause) as applicable, an estimate of the quantity in pounds of each regulated pollutant emitted over an emission limit and a description of the method used to estimate the emissions, and the corrective action taken.

(8) On or before January 25, 2021, for affected sources that commenced construction or reconstruction on or before September 25, 2019, for each deviation from an emission limitation occurring at an affected source where you are using a continuous monitoring system (including a CPMS or COMS) to comply with the emission limitation in this subpart, you must include the information in paragraphs (b)(1) through (4) of this section and the information in paragraphs (b)(8)(i) through (xi) of this section. This includes periods of startup, shutdown, and malfunction. After January 25, 2021, for affected sources that commenced construction or reconstruction on or before September 25, 2019, and after July 28, 2020, or upon start-up, which ever date is later, for affected sources that commenced construction or reconstruction after September 25, 2019, for each deviation from an emission limitation occurring at an affected source where you are using a continuous monitoring system (including a CPMS or COMS) to comply with the emission limitation in this subpart, you must include the information in paragraphs (b)(1) through (4) of this section and the information in paragraphs (b)(8)(i) through (xi) of this section.

* * * * *

(ii) The start date, start time, and duration in hours (or minutes for COMS) that each continuous monitoring system was inoperative, except for zero (low-level) and high-level checks.

(iii) The start date, start time, and duration in hours (or minutes for COMS) that each continuous monitoring system was out-of-control, including the information in § 63.8(c)(8).

(iv) On or before January 25, 2021, for affected sources that commenced construction or reconstruction on or before September 25, 2019, for each affected source or equipment, the date and time that each deviation started and stopped, the cause of the deviation, and whether each deviation occurred during a period of startup, shutdown, or malfunction or during another period. After January 25, 2021, for affected sources that commenced construction or reconstruction on or before September 25, 2019, and after July 28, 2020, or upon start-up, which ever date is later, for affected sources that commenced construction or reconstruction after September 25, 2019, for each affected source or equipment, the date and time that each deviation started and stopped, the cause of the deviation, and whether each deviation occurred during a period of malfunction or during another period.

(v) The total duration in hours (or minutes for COMS) of all deviations for each Continuous Monitoring System (CMS) during the reporting period, the total operating time in hours of the affected source during the reporting period, and the total duration as a percent of the total source operating time during that reporting period.

(vi) On or before January 25, 2021, for affected sources that commenced construction or reconstruction on or before September 25, 2019, a breakdown of the total duration of the deviations during the reporting period including those that are due to startup, shutdown, control equipment problems, process problems, other known causes, and other unknown causes. After January 25, 2021, for affected sources that commenced construction or reconstruction on or before September 25, 2019, and after July 28, 2020, or upon start-up, which ever date is later, for affected sources that commenced construction or reconstruction after September 25, 2019, a breakdown of the total duration in hours (or minutes for COMS) of the deviations during the reporting period including those that are due to control equipment problems, process problems, other known causes, and other unknown causes.

(vii) The total duration in hours (or minutes for COMS) of continuous monitoring system downtime for each continuous monitoring system during the reporting period, the total operating time in hours of the affected source during the reporting period, and the total duration of continuous monitoring system downtime as a percent of the total source operating time during the reporting period.

* * * * *

(ix) The monitoring equipment manufacturer and model number and the pollutant or parameter monitored.

* * * * *

(c) Submitting compliance reports electronically. Beginning on January 25, 2021, submit all subsequent compliance reports to the EPA via CEDRI, which can be accessed through the EPA's Central Data Exchange (CDX) (https://cdx.epa.gov/). The EPA will make all the information submitted through CEDRI available to the public without further notice to you. Do not use CEDRI to submit information you claim as confidential business information (CBI). Anything submitted using CEDRI cannot later be claimed to be CBI. You must use the appropriate electronic report template on the CEDRI website (https://www.epa.gov/electronic-reporting-air-emissions/compliance-and-emissions-data-reporting-interface-cedri) for this subpart. The report must be submitted by the deadline specified in this subpart, regardless of the method in which the report is submitted. Although we do not expect persons to assert a claim of CBI, if persons wish to assert a CBI claim, submit a complete report, including information claimed to be CBI, to the EPA. The report must be generated using the appropriate form on the CEDRI website. Submit the file on a compact disc, flash drive, or other commonly used electronic storage medium and clearly mark the medium as CBI. Mail the electronic medium to U.S. EPA/OAQPS/SPPD/CORE CBI Office, Attention: Taconite Iron Ore Processing Sector Lead, MD C404-02, 4930 Old Page Rd., Durham, NC 27703. The same file with the CBI omitted must be submitted to the EPA via the EPA's CDX as described earlier in this paragraph (c). All CBI claims must be asserted at the time of submission. Furthermore, under CAA section 114(c) emissions data in not entitled to confidential treatment, and EPA is required to make emissions data available to the public. Thus, emissions data will not be protected as CBI and will be made publicly available. On or before January 25, 2021, for affected sources that commenced construction or reconstruction on or before September 25, 2019, if you had a startup, shutdown, or malfunction during the reporting period that is not consistent with your startup, shutdown, and malfunction plan you must submit an immediate startup, shutdown and malfunction report according to the requirements in § 63.10(d)(5)(ii). After January 25, 2021, for affected sources that commenced construction or reconstruction on or before September 25, 2019, and after July 28, 2020, or upon start-up, which ever date is later, for affected sources that commenced construction or reconstruction after September 25, 2019, an immediate startup, shutdown, and malfunction report is not required.

* * * * *

(f) Performance tests. After January 25, 2021, for affected sources that commenced construction or reconstruction on or before September 25, 2019, and after July 28, 2020, or upon start-up, which ever date is later, for affected sources that commenced construction or reconstruction after September 25, 2019, within 60 days after the date of completing each performance test required by this subpart, you must submit the results of the performance test following the procedures specified in paragraphs (f)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via CEDRI, which can be accessed through the EPA's CDX (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential business information (CBI). The EPA will make all the information submitted through CEDRI available to the public without further notice to you. Do not use CEDRI to submit information you claim as CBI. Anything submitted using CEDRI cannot later be claimed to be CBI. Although we do not expect persons to assert a claim of CBI, if persons wish to assert a CBI claim, submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraphs (f)(1) and (2) of this section. All CBI claims must be asserted at the time of submission. Furthermore, under CAA section 114(c) emissions data in not entitled to confidential treatment, and EPA is required to make emissions data available to the public. Thus, emissions data will not be protected as CBI and will be made publicly available.

(g) Claims of EPA system outage. After January 25, 2021, for affected sources that commenced construction or reconstruction on or before September 25, 2019, and after July 28, 2020, or upon start-up, which ever date is later, for affected sources that commenced construction or reconstruction after September 25, 2019, if you are required to electronically submit a report through CEDRI in the EPA's CDX, you may assert a claim of EPA system outage for failure to timely comply with the reporting requirement. To assert a claim of EPA system outage, you must meet the requirements outlined in paragraphs (g)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(h) Claims of force majeure. After January 25, 2021, for affected sources that commenced construction or reconstruction on or before September 25, 2019, and after July 28, 2020, or upon start-up, which ever date is later, for affected sources that commenced construction or reconstruction after September 25, 2019, if you are required to electronically submit a report through CEDRI in the EPA's CDX, you may assert a claim of force majeure for failure to timely comply with the reporting requirement. To assert a claim of force majeure, you must meet the requirements outlined in paragraphs (h)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

18. Section 63.9642 is amended by revising paragraph (a) introductory text and (a)(2), adding paragraphs (a)(4) through (6), and revising paragraph (b)(3) to read as follows:

§ 63.9642 What records must I keep?

(a) On or before January 25, 2021, for affected sources that commenced construction or reconstruction on or before September 25, 2019, you must keep the records listed in paragraphs (a)(1) through (3) of this section. After January 25, 2021, for affected sources that commenced construction or reconstruction on or before September 25, 2019, and after July 28, 2020, or upon start-up, which ever date is later, for affected sources that commenced construction or reconstruction after September 25, 2019, you must keep the records listed in paragraphs (a)(1) through (6) of this section.

* * * * *

(2) On or before January 25, 2021, for affected sources that commenced construction or reconstruction on or before September 25, 2019, the records in § 63.6(e)(3)(iii) through (v) related to startup, shutdown, and malfunction. After January 25, 2021, for affected sources that commenced construction or reconstruction on or before September 25, 2019, and after July 28, 2020, or upon start-up, which ever date is later, for affected sources that commenced construction or reconstruction after September 25, 2019, a startup, shutdown, and malfunction plan is not required.

* * * * *

(4) In the event that an affected unit fails to meet an applicable standard, record the number of failures. For each failure record the date, time, the cause and duration of each failure.

(5) For each failure to meet an applicable standard, record and retain a list of the affected sources or equipment, an estimate of the quantity of each regulated pollutant emitted over any emission limit and a description of the method used to estimate the emissions.

(6) Record actions taken in accordance with the general duty requirements to minimize emissions in § 63.9600(a) and any corrective actions taken to return the affected unit to its normal or usual manner of operation.

(b) * * *

(3) On or before January 25, 2021, for affected sources that commenced construction or reconstruction on or before September 25, 2019, previous (that is, superseded) versions of the performance evaluation plan as required in § 63.8(d)(3). After January 25, 2021, for affected sources that commenced construction or reconstruction on or before September 25, 2019, and after July 28, 2020, or upon start-up, which ever date is later, for affected sources that commenced construction or reconstruction after September 25, 2019, previous (that is, superseded) versions of the performance evaluation plan as required in § 63.9632(b)(5), with the program of corrective action included in the plan required under § 63.8(d)(2).

* * * * *

19. Section 63.9650 is revised to read as follows:

§ 63.9650 What parts of the General Provisions apply to me?

Table 2 to this subpart shows which parts of the General Provisions in §§ 63.1 through 63.16 apply to you.

20. Section 63.9651 is amended by revising paragraph (c) introductory text and adding paragraph (c)(5) to read as follows:

§ 63.9651 Who implements and enforces this subpart?

* * * * *

(c) The authorities that will not be delegated to state, local, or tribal agencies are specified in paragraphs (c)(1) through (5) of this section.

* * * * *

(5) Approval of an alternative to any electronic reporting to the EPA required by this subpart.

21. Section 63.9652 is amended by:

a. Removing the definition for “Conveyor belt transfer point”.

b. Revising the definition for “Deviation”.

c. Removing the definition for “Wet grinding and milling”.

d. Adding in alphabetical order a definition for “Wet scrubber”.

The revision and addition read as follows:

§ 63.9652 What definitions apply to this subpart?

* * * * *

Deviation means any instance in which an affected source subject to this subpart, or an owner or operator of such a source:

(1) Fails to meet any requirement or obligation established by this subpart, including but not limited to any emission limitation (including operating limits) or operation and maintenance requirement; or

(2) Fails to meet any term or condition that is adopted to implement an applicable requirement in this subpart and that is included in the operating permit for any affected source required to obtain such a permit.

* * * * *

Wet scrubber means an air pollution control device that removes particulate matter and acid gases from the waste gas stream of stationary sources. The pollutants are removed primarily through the impaction, diffusion, interception and/or absorption of the pollutant onto droplets of liquid. Wet scrubbers include venturi scrubbers, marble bed scrubbers, or impingement scrubbers. For purposes of this subpart, wet scrubbers do not include dynamic wet scrubbers.

22. Table 2 to subpart RRRRR of part 63 is revised to read as follows:

As required in § 63.9650, you must comply with the requirements of the NESHAP General Provisions (40 CFR part 63, subpart A) shown in the following table:

Table 2 to Subpart RRRRR of Part 63—Applicability of General Provisions to Subpart RRRRR of Part 63
Citation | Subject | Applies to subpart RRRRR | Explanation
§ 63.1(a)(1)-(4) | Applicability | Yes
§ 63.1(a)(5) | [Reserved] | No
§ 63.1(a)(6) | Applicability | Yes
§ 63.1(a)(7)-(9) | [Reserved] | No
§ 63.1(a)(10)-(12) | Applicability | Yes
§ 63.1(b)(1) | Initial Applicability Determination | Yes
§ 63.1(b)(2) | [Reserved] | No
§ 63.1(b)(3) | Initial Applicability Determination | Yes
§ 63.1(c)(1)-(2) | Applicability After Standard Established, Permit Requirements | Yes
§ 63.1(c)(3)-(4) | [Reserved] | No
§ 63.1(c)(5) | Area Source Becomes Major | Yes
§ 63.1(d) | [Reserved] | No
§ 63.1(e) | Equivalency of Permit Limits | Yes
§ 63.2 | Definitions | Yes
§ 63.3(a)-(c) | Units and Abbreviations | Yes
§ 63.4(a)(1)-(2) | Prohibited Activities | Yes
§ 63.4(a)(3)-(5) | [Reserved] | No
§ 63.4(b)-(c) | Circumvention, Fragmentation | Yes
§ 63.5(a)(1)-(2) | Construction/Reconstruction, Applicability | Yes
§ 63.5(b)(1) | Construction/Reconstruction, Applicability | Yes
§ 63.5(b)(2) | [Reserved] | No
§ 63.5(b)(3)-(4) | Construction/Reconstruction, Applicability | Yes
§ 63.5(b)(5) | [Reserved] | No
§ 63.5(b)(6) | Applicability | Yes
§ 63.5(c) | [Reserved] | No
§ 63.5(d)(1)-(4) | Application for Approval of Construction or Reconstruction | Yes
§ 63.5(e) | Approval of Construction or Reconstruction | Yes
§ 63.5(f) | Approval Based on State Review | Yes
§ 63.6(a) | Compliance with Standards and Maintenance Requirements | Yes
§ 63.6(b)(1)-(5) | Compliance Dates for New/Reconstructed Sources | Yes
§ 63.6(b)(6) | [Reserved] | No
§ 63.6(b)(7) | Compliance Dates for New/Reconstructed Sources | Yes
§ 63.6(c)(1)-(2) | Compliance Dates for Existing Sources | Yes
§ 63.6(c)(3)-(4) | [Reserved] | No
§ 63.6(c)(5) | Compliance Dates for Existing Sources | Yes
§ 63.6(d) | [Reserved] | No
§ 63.6(e)(1)(i) | Operation and Maintenance Requirements—General Duty to Minimize Emissions | Yes, on or before the compliance date specified in § 63.9600(a). No, after the compliance date specified in § 63.9600(a) | See § 63.9600(a) for general duty requirement.
§ 63.6(e)(1)(ii) | Operation and Maintenance Requirements—Requirement to Correct Malfunction as Soon as Possible | No
§ 63.6(e)(1)(iii) | Operation and Maintenance Requirements—Enforceability | Yes
§ 63.6(e)(2) | [Reserved] | No
§ 63.6(e)(3) | Startup, Shutdown, Malfunction (SSM) Plan | Yes, on or before the compliance date specified in § 63.9610(c). No, after the compliance date specified in § 63.9610(c)
§ 63.6(f)(1) | SSM Exemption | No | See § 63.9600(a).
§ 63.6(f)(2)-(3) | Methods for Determining Compliance | Yes
§ 63.6(g)(1)-(3) | Alternative Nonopacity Standard | Yes
§ 63.6(h), except (h)(1) | Compliance with Opacity and Visible Emission (VE) Standards | No | Opacity limits in subpart RRRRR are established as part of performance testing in order to set operating limits for ESPs.
§ 63.6(h)(1) | Compliance except during SSM | No | See § 63.9600(a).
§ 63.6(i)(1)-(14) | Extension of Compliance | Yes
§ 63.6(i)(15) | [Reserved] | No
§ 63.6(i)(16) | Extension of Compliance | Yes
§ 63.6(j) | Presidential Compliance Exemption | Yes
§ 63.7(a)(1)-(2) | Applicability and Performance Test Dates | No | Subpart RRRRR specifies performance test applicability and dates.
§ 63.7(a)(3)-(4) | Performance Testing Requirements | Yes
§ 63.7(b) | Notification | Yes
§ 63.7(c) | Quality Assurance/Test Plan | Yes
§ 63.7(d) | Testing Facilities | Yes
§ 63.7(e)(1) | Conduct of Performance Tests | No | See § 63.9621.
§ 63.7(e)(2)-(4) | Conduct of Performance Tests | Yes
§ 63.7(f) | Alternative Test Method | Yes
§ 63.7(g) | Data Analysis | Yes | Except this subpart specifies how and when the performance test results are reported.
§ 63.7(h) | Waiver of Tests | Yes
§ 63.8(a)(1)-(2) | Monitoring Requirements | Yes
§ 63.8(a)(3) | [Reserved] | No
§ 63.8(a)(4) | Additional Monitoring Requirements for Control Devices in § 63.11 | No | Subpart RRRRR does not require flares.
§ 63.8(b)(1)-(3) | Conduct of Monitoring | Yes
§ 63.8(c)(1)(i) | Operation and Maintenance of CMS | Yes, on or before the compliance date specified in § 63.9632(b)(4). No, after the compliance date specified in § 63.9632(b)(4) | See § 63.9632 for operation and maintenance requirements for monitoring. See § 63.9600(a) for general duty requirement.
§ 63.8(c)(1)(ii) | Spare parts for CMS Equipment | Yes
§ 63.8(c)(1)(iii) | SSM Plan for CMS | Yes, on or before the compliance date specified in § 63.9632(b)(4). No, after the compliance date specified in § 63.9632(b)(4)
§ 63.8(c)(2)-(3) | CMS Operation/Maintenance | Yes
§ 63.8(c)(4) | Frequency of Operation for CMS | No | Subpart RRRRR specifies requirements for operation of CMS.
§ 63.8(c)(5)-(8) | CMS Requirements | Yes | CMS requirements in § 63.8(c)(5) and (6) apply only to COMS for dry electrostatic precipitators.
§ 63.8(d)(1)-(2) | Monitoring Quality Control | Yes
§ 63.8(d)(3) | Monitoring Quality Control | No | See § 63.9632(b)(5).
§ 63.8(e) | Performance Evaluation of CMS | Yes
§ 63.8(f)(1)-(5) | Alternative Monitoring Method | Yes
§ 63.8(f)(6) | Relative Accuracy Test Alternative (RATA) | No | Subpart RRRRR does not require continuous emission monitoring systems.
§ 63.8(g)(1)-(4) | Data Reduction | Yes
§ 63.8(g)(5) | Data That Cannot Be Used | No | Subpart RRRRR specifies data reduction requirements.
§ 63.9 | Notification Requirements | Yes | Additional notifications for CMS in § 63.9(g) apply to COMS for dry electrostatic precipitators.
§ 63.10(a) | Recordkeeping and Reporting, Applicability and General Information | Yes
§ 63.10(b)(1) | General Recordkeeping Requirements | Yes
§ 63.10(b)(2)(i) | Records of SSM | No | See § 63.9642 for recordkeeping when there is a deviation from a standard.
§ 63.10(b)(2)(ii) | Recordkeeping of Failures to Meet Standard | No | See § 63.9642 for recordkeeping of (1) date, time and duration; (2) listing of affected source or equipment, and an estimate of the quantity of each regulated pollutant emitted over the standard; and (3) actions to minimize emissions and correct the failure.
§ 63.10(b)(2)(iii) | Maintenance Records | Yes
§ 63.10(b)(2)(iv) | Actions Taken to Minimize Emissions During SSM | No
§ 63.10(b)(2)(v) | Actions Taken to Minimize Emissions During SSM | No
§ 63.10(b)(2)(vi) | Recordkeeping for CMS Malfunctions | Yes
§ 63.10(b)(2)(vii)-(xii) | Recordkeeping for CMS | Yes
§ 63.10(b)(2)(xiii) | Records for Relative Accuracy Test | No | Subpart RRRRR does not require continuous emission monitoring systems.
§ 63.10(b)(2)(xiv) | Records for Notification | Yes
§ 63.10(b)(3) | Applicability Determinations | Yes
§ 63.10(c)(1)-(6) | Additional Recordkeeping Requirements for Sources with CMS | Yes
§ 63.10(c)(7)-(8) | Records of Excess Emissions and Parameter Monitoring Exceedances for CMS | No | Subpart RRRRR specifies recordkeeping requirements.
§ 63.10(c)(9) | [Reserved] | No
§ 63.10(c)(10)-(14) | CMS Recordkeeping | Yes
§ 63.10(c)(15) | Use of SSM Plan | No
§ 63.10(d)(1)-(2) | General Reporting Requirements | Yes | Except this subpart specifies how and when the performance test results are reported.
§ 63.10(d)(3) | Reporting opacity or VE observations | No | Subpart RRRRR does not have opacity and VE standards that require the use of EPA Method 9 of appendix A-4 to 40 CFR part 60 or EPA Method 22 of appendix A-7 to 40 CFR part 60.
§ 63.10(d)(5) | SSM Reports | Yes, on or before the compliance date specified in § 63.9641(b)(4). No, after the compliance date specified in § 63.9641(b)(4) | See § 63.9641 for malfunction reporting requirements.
§ 63.10(e) | Additional Reporting Requirements | Yes, except a breakdown of the total duration of excess emissions due to startup/shutdown in 63.10(e)(3)(vi)(I) is not required and when the summary report is submitted through CEDRI, the report is not required to be titled “Summary Report-Gaseous and Opacity Excess Emission and Continuous Monitoring System Performance.” | The electronic reporting template combines the information from the summary report and excess emission report with the Subpart RRRRR compliance report.
§ 63.10(f) | Waiver of Recordkeeping or Reporting Requirements | Yes
§ 63.11 | Control Device and Work Practice Requirements | No | Subpart RRRRR does not require flares.
§ 63.12(a)-(c) | State Authority and Delegations | Yes
§ 63.13(a)-(c) | State/Regional Addresses | Yes
§ 63.14(a)-(t) | Incorporations by Reference | Yes
§ 63.15(a)-(b) | Availability of Information and Confidentiality | Yes
§ 63.16 | Performance Track Provisions | Yes

[FR Doc. 2020-13397 Filed 7-27-20; 8:45 am]

BILLING CODE 6560-50-P